RAILROAD RETIREMENT BOARD

Privacy Act of 1974; New and Revised Systems of Records

AGENCY: Railroad Retirement Board.

ACTION: Notice: Publication of New and Revised Systems of Records and Standard Disclosures.

SUMMARY: The purpose of this document is to republish and update all existing systems of records in their entirety, to change the name of one system of records and to publish one new system of records.

DATES: These changes become effective as proposed without further notice on December 1, 2014. We will file a report of these Systems of Records Notices with the Committee on Homeland Security and Governmental Affairs of the Senate; the Committee on Oversight and Government Reform of the House of Representatives; and the Office of Information and Regulatory Affairs, Office of Management and Budget (OMB).

ADDRESSES: Send comments to Ms. Martha P. Rico, Secretary to the Board, Railroad Retirement Board, 844 North Rush Street, Chicago, Illinois 60611-2092.

FOR FURTHER INFORMATION CONTACT: Mr. Timothy Grant, Chief Privacy Officer, Railroad Retirement Board, 844 North Rush Street, Chicago, Illinois 60611-2092; telephone 312-751-4869, or email at tim.grant@rrb.gov.

SUPPLEMENTARY INFORMATION: One new system of records is included in this notice: RRB-59, Electronic Information Systems Activity and Access Logs.

We are retiring one system of records: RRB-3, Medicare, Part B, as those records are part of Medicare Multi-Carrier Claims System (MCS), Department of Health and Human Services (HHS), Centers for Medicare & Medicaid Services (CMS).

All other existing systems of records have been reviewed and any major changes are marked, such as a new routine use. The RRB follows Federal Law and Regulations, the National Institute of Science and Technology (NIST) guidelines and best practices, as appropriate to ensure proper safeguarding and disposal of our records.

By Authority of the Board.
Martha P. Rico,
Secretary to the Board.

RAILROAD RETIREMENT BOARD (RRB) SYSTEMS OF RECORDS

RRB-1—Social Security Benefit Vouchering System

RRB-2—[Reserved]

RRB-3—[Reserved]

RRB-4—Estimated Annuity, Total Compensation and Residual Amount File

RRB-5—Master File of Railroad Employees' Creditable Compensation

RRB-6—Unemployment Insurance Record File

RRB-7—Applications for Unemployment Benefits and Placement Service Under the Railroad Unemployment Insurance Act

RRB-8—Railroad Retirement Tax Reconciliation System (Employee Representatives)

RRB-9—[Reserved]

RRB-10—Legal Opinion and Correspondence Files

RRB-11—Files on Concluded Litigation

RRB-12—Railroad Employees' Registration File

RRB-13-15—[Reserved]

RRB-16—Social Security Administration Master Earnings File

RRB-17—Appeal Decisions from Reconsideration Denials for Benefits Under the Provisions of the Railroad Retirement Act or the Railroad Unemployment Insurance Act

RRB-18—Miscellaneous Payments paid/posted to the General Ledger by FFS the Financial Management Integrated System (FMIS)

RRB-19—Transit Benefit Program Records System

RRB-20—Health Insurance and Supplementary Medical Insurance Enrollment and Premium Payment System (Medicare)

RRB-21—Railroad Unemployment and Sickness Insurance Benefit System

RRB-22—Railroad Retirement, Survivor, and Pensioner Benefit System

RRB-23-25—[Reserved]

RRB-26—Payment, Rate and Entitlement History File

RRB-27—Railroad Retirement Board-Social Security Administration Financial Interchange

RRB-28—[Reserved]

RRB-29—Railroad Employees' Annual Gross Earnings Master File

RRB-30-32—[Reserved]

RRB-33—Federal Employee Incentive Awards System

RRB-34—Employee Personnel Management Files

RRB-35—[Reserved]

RRB-36—Complaint, Grievance, Disciplinary and Adverse Action Files

RRB-37-41—[Reserved]

RRB-42—Overpayment Accounts

RRB-43—Investigation Files

RRB-44-45—[Reserved]

RRB-46—Personnel Security Files

RRB-47—[Reserved]

RRB-48—Physical Access Management System

RRB-49—Telephone Call Detail Records

RRB-50—Child Care Tuition Assistance Program

RRB-51—Railroad Retirement Board's Customer PIN/Password (PPW) Master File System

RRB-52—Board Orders

RRB-53—Employee Medical and Eye Examination Reimbursement Program

RRB-54—Virtual Private Network (VPN) Access Management

RRB-55—Contact Log

RRB-56—Employee Service and Railroad Employer Coverage Determination Files

RRB-57—Employee Emergency Notification System

RRB-58—Employee Tuition Assistance Program (TAP)

RRB-59—New—Electronic Information Systems Activity and Access Logs

PREFATORY STATEMENT CONCERNING RRB STANDARD DISCLOSURES:

Beside those disclosures provided under 5 U.S.C. 552a(b) of The Privacy Act which pertain generally to all of the RRB systems of records, the RRB implemented in their 2007 Federal Register notice, certain standard disclosures which apply to all systems of records, unless specifically excluded in a system notice. These standard disclosures are in addition to the particular routine uses listed under each system of records, as follows:

Standard Disclosure 1.—Congressional. Disclosure may be made to a congressional office from the record of an individual in response to an inquiry from the congressional office made at the request of that individual if that individual would not be denied access to the information.

Standard Disclosure 2.—Presidential. Disclosure of relevant information from the record of an individual may be made to the Office of the President in response to an inquiry from that office made at the request of that individual or a third party on the individual's behalf if that individual would not be denied access to the information.

Standard Disclosure 3.—Contractors working for Federal Government. Disclosure may be made to contractors, grantees, experts, consultants, students, and others performing or working on a contract, service, grant, cooperative agreement, or other assignment for the Federal government, to the extent necessary to accomplish an RRB function related to that system of records.

Standard Disclosure 4.—Law Enforcement. Disclosure may be made to the appropriate agency, whether Federal, State, local, or foreign, charged with the responsibility of investigating, enforcing, or prosecuting a violation or potential violation of law, whether civil, criminal or regulatory in nature, and whether arising by general statute or particular program statute, or by regulation, rule or order issued pursuant thereto, or charged with enforcing or implementing the statute, rule, regulation, or order issued pursuant thereto, if the disclosure would be to an agency engaged in functions related to the Railroad Retirement Act or the Railroad Unemployment Insurance Act, or if disclosure would be clearly in the furtherance of the interest of the subject individual.

Standard Disclosure 5.—Breach Notification. Disclosure may be made, to appropriate agencies, entities, and persons when (1) the Railroad Retirement Board suspects or has confirmed that the security or confidentiality of information in the system of records has been compromised; (2) the Railroad Retirement Board has determined that as a result of the suspected or confirmed compromise there is a risk of harm to economic or property interests, identity theft or fraud, or harm to the security or integrity of this system or other systems or programs (whether maintained by the Railroad Retirement Board or another agency or entity) that rely upon the compromised information; and (3) the disclosure made to such agencies, entities, and persons is reasonably necessary to assist in connection with the Railroad Retirement Board's efforts to respond to the suspected or confirmed compromise and prevent, minimize, or remedy such harm.

Standard Disclosure 6.— National Archives. Disclosure may be made to the National Archives and Records Administration or other Federal government agencies for records management inspections being conducted under the authority of 44 U.S.C. 2904 and 2906.

Standard Disclosure 7.—Attorney Representative. Disclosure of non-medical information in this system of records may be made to the attorney representing such individual upon receipt of a written letter or declaration stating the fact of representation, if that individual would not be denied access to the information. Medical information may be released to an attorney when such records are requested for the purpose of contesting a determination either administratively or judicially.

* * * * *

RRB-1

SYSTEM NAME:

Social Security Benefit Vouchering System.

SYSTEM LOCATION:

U.S. Railroad Retirement Board, 844 Rush Street, Chicago, Illinois 60611.

SECURITY CLASSIFICATION:

None.

CATEGORIES OF INDIVIDUALS COVERED BY THE SYSTEM:

Applicants after December 31, 1974, for benefits under Title II of the Social Security Act who have completed ten years or at least five years after 1995 of creditable service in the railroad industry, the spouse and/or divorced spouse or survivor of such an individual.

CATEGORIES OF RECORDS IN THE SYSTEM:

Name, address, Social Security number, RRB claim number, type and amount of benefit, suspension and termination information.

AUTHORITY FOR MAINTENANCE OF THE SYSTEM:

Section 7(b)(2) of the Railroad Retirement Act of 1974 (45 U.S.C. 231f(b)(2)).

PURPOSE(S):

Records in the Social Security Vouchering System are maintained to administer Title II of the Social Security Act with respect to payment of benefits to individuals with 10 or more years or at least five years after 1995 of railroad service and their families.

ROUTINE USES OF RECORDS MAINTAINED IN THE SYSTEM, INCLUDING CATEGORIES OF USERS, AND THE PURPOSES OF SUCH USES:

a. Benefit rate information may be disclosed to primary beneficiaries regarding secondary beneficiaries (or vice versa) when the addition of such beneficiary affects either the entitlement or benefit payment.

b. In the event the Board has determined to designate a person to be the representative payee of an incompetent beneficiary, disclosure of information concerning the benefit amount and other similar information may be made to the representative payee from the record of the individual.

c. Benefit rates, names and addresses may be released to the Department of Treasury to control for reclamation and return of outstanding benefit payments, to issue benefit payments, act on reports of non-receipt, to insure delivery of payments to the correct address of the beneficiary or representative payee or to proper financial organization, and to investigate alleged forgery, theft or unlawful negotiation of railroad retirement for social security benefit checks or improper diversion of payments directed to a financial organization.

d. Beneficiary's name, address, check rate and date plus supporting evidence may be released to the U.S. Postal Service for investigation of alleged forgery or theft of railroad retirement or social security benefit checks.

e. Beneficiary identifying information, effective date, benefit rates, and months paid may be furnished to the Veterans Administration for the purpose of assisting that agency in determining eligibility for benefits or verifying continued entitlement to and the correct amount of benefits payable under programs which it administers.

f. Benefit rates and effective dates may be disclosed to the Social Security Administration, Bureau of Supplemental Security Income, to Federal, State and local welfare or public aid agencies to assist them in processing applications for benefits under their respective programs.

g. Last addresses information may be disclosed to the Department of Health and Human Services in conjunction with the Parent Locator Service.

h. Benefit rates, entitlement and other necessary information may be released to the Department of Labor in conjunction with payment of benefits under the Federal Coal Mine and Safety Act.

i. Pursuant to a request from an employer covered by the Railroad Retirement Act or the Railroad Unemployment Insurance Act or from an organization under contract to an employer or employers, information regarding the Board's payment of benefits, the methods by which such benefits are calculated, entitlement data and present address may be released to the requesting employer or the organization under contract to the employer or employers for the purposes of determining entitlement to and the rates of private supplemental pension benefits and to calculate estimated benefits due.

j. If a request for information pertaining to an individual is made by an official of a labor organization of which the individual is a member and the request is made on behalf of the individual, information from the record of the individual concerning his benefit or anticipated benefit and concerning the method of calculating that benefit may be disclosed to the labor organization official.

k. Records may be disclosed to the Government Accountability Office for auditing purposes and for collection of debts arising from overpayments under Title II of the Social Security Act, as amended.

l. Records may be disclosed in a court proceeding relating to any claims for benefits by the beneficiary under the Railroad Retirement Act and may be disclosed during the course of an administrative appeal to individuals who need the records to prosecute or decide the appeal or to individuals who are requested to provide information relative to an issue involved in the appeal.

m. For payments made after December 31, 1983, beneficiary identifying information, address, amounts of benefits paid and repaid, beneficiary withholding instructions, and amounts withheld by the RRB for tax purposes may be furnished to the Internal Revenue Service for tax administration.

n. Beneficiary identifying information, entitlement data, and benefit rates may be released to the Department of State and embassy and consular officials, to the American Institute on Taiwan, and to the Veterans Administration Regional Office, Philippines, to aid in insuring the continued payment of beneficiaries living abroad.

o. Entitlement data and benefit rates may be released to any court, state, agency, or interested party, or to the representative of such court, state agency, or interested party, in connection with contemplated or actual legal or administrative proceeding concerning domestic relations and support matters.

DISCLOSURE TO CONSUMER REPORTING AGENCIES:

None.

POLICIES AND PRACTICES FOR STORING, RETRIEVING, ACCESSING, RETAINING, AND DISPOSING OF RECORDS IN THE SYSTEM:

STORAGE:

Paper, microforms, magnetic tape and magnetic disk.

RETRIEVABILITY:

Social security account number, full name.

SAFEGUARDS:

Paper and Microforms: Maintained in areas not accessible to the public in metal filing cabinets. Offices are locked during non-business hours. Building has 24 hour on-site security officers, closed circuit television monitoring and intrusion detection systems.

Magnetic tape and magnetic disk: Computer and computer storage rooms are restricted to authorized personnel; on-line query safeguards include a lock/unlock password system, a terminal oriented transaction matrix, role based access controls and audit trail. For electronic records, system securities are established in accordance with National Institute of Standards and Technology (NIST) guidelines, including network monitoring, defenses in-depth, incident response and forensics. In addition to the on-line query safeguards, they include encryption of all data transmitted and exclusive use of leased telephone lines.

RETENTION AND DISPOSAL:

Paper: Individual claim folders with records of all actions pertaining to the payment of claims are transferred to the Federal Records Center, Chicago, Illinois 5 years after the date of last payment or denial activity if all benefits have been paid, no future eligibility is apparent and no erroneous payments are outstanding.

The claim folder is destroyed 25 years after the date it is received in the center. Accounts receivable listings and checkwriting operations daily activity listings are transferred to the Federal Records Center 1 year after date of issue and are destroyed 6 years and 3 months after receipt at the center. Other paper listings are destroyed 1 year after the date of issue. Changes of address source documents are destroyed after 1 year.

Microforms: Originals are kept for 3 years, transferred to the Federal Records Center and destroyed when 8 years old. One duplicate copy is kept 2 years and destroyed by shredding. All other duplicate copies are kept 1 year and destroyed in accordance with NIST guidelines.

Magnetic tape: Tapes are updated at least monthly. For disaster recovery purposes, certain tapes are stored for 12-18 month periods.

Magnetic disk: Continually updated and permanently retained. When magnetic disk or other electronic media is no longer servicable, it is sanitized in accordance with NIST guidelines.

SYSTEM MANAGER(S) AND ADDRESS:

Office of Programs—Director of Policy and Systems, Railroad Retirement Board, 844 Rush Street, Chicago, Illinois 60611-2092.

NOTIFICATION PROCEDURE:

Requests for information regarding an individual's records should be in writing, including full name, social security number and railroad retirement claim number (if any) of the individual. Before any information about any record will be released, the individual may be required to provide proof of identity, or authorization from the individual to permit release of information. Such requests should be sent to: Office of Programs—Director of Operations, Railroad Retirement Board, 844 Rush Street, Chicago, Illinois 60611-2092.

RECORD ACCESS PROCEDURE:

See Notification section above.

CONTESTING RECORD PROCEDURE:

See Notification section above.

RECORD SOURCE CATEGORIES:

Individual applicant or his or her authorized representative, the Social Security Administration, other record systems maintained by the Railroad Retirement Board.

EXEMPTIONS CLAIMED FOR THE SYSTEM:

None.

* * * * *

RRB-2 [Reserved]

* * * * *

RRB-3 [Retired]—Covered by Medicare Multi-Carrier Claims System (MCS), Department of Health and Human Services (HHS), Centers for Medicare & Medicaid Services (CMS), System Number 09-70-0501, see their Federal Register notice at 71 FR 64968, November 6, 2006.

* * * * *

RRB-4

SYSTEM NAME:

Estimated Annuity, Total Compensation and Residual Amount File.

SYSTEM LOCATION:

U.S. Railroad Retirement Board, 844 Rush Street, Chicago, Illinois 60611-2092.

SECURITY CLASSIFICATION:

None.

CATEGORIES OF INDIVIDUALS COVERED BY THE SYSTEM:

Railroad employees who never filed an application for an annuity, have not been reported to be deceased and who either worked in the current reporting year or have at least 120 months of creditable railroad service or have at least 60 months of creditable railroad service after 1995.

CATEGORIES OF RECORDS IN THE SYSTEM:

For employees with less than 120 months of creditable railroad service, or less than 60 months of creditable railroad service after 1995: Social Security Number (SSN), name, date of birth, sex, cumulative service, cumulative tier 1 compensation, daily pay rate, employer number, gross residual, year last worked, number and pattern of months worked in year last worked, tier 1 compensation for year last worked, tier 2 compensation for year last worked. For railroad employees with 120 or more months of creditable railroad service and for employees with at least 60 months of creditable railroad service after 1995; all of the above information plus estimated annuity data and SSA data.

AUTHORITY FOR MAINTENANCE OF THE SYSTEM:

Section 7(b)(6) of the Railroad Retirement Act of 1974 (45 U.S.C. 231f(b)(6)).

PURPOSE(S):

The primary purpose of the system is to provide field offices with the capability of furnishing annuity estimates to prospective beneficiaries. The system is also used by field offices to provide temporary annuity rates that the Division of Operations may issue to applicants for employee and spouse benefits.

ROUTINE USES OF RECORDS MAINTAINED IN THE SYSTEM, INCLUDING CATEGORIES OF USERS, AND THE PURPOSES OF SUCH USES:

a. Entitlement information may be disclosed to primary beneficiaries regarding secondary beneficiaries (or vice versa) when the addition of such beneficiary affects either the entitlement or benefit payment.

b. Pursuant to a request from an employer covered by the Railroad Retirement Act or the Railroad Unemployment Insurance Act, information regarding the Board's estimated payment of unemployment, sickness or retirement benefits, the methods by which such benefits are calculated and entitlement data may be released to the requesting employer for the purposes of determining entitlement to and the rates of private supplemental pensions, sickness or unemployment benefits and to calculate estimated benefits due.

c. If a request for information pertaining to an individual is made by an official of a labor organization of which the individual is a member and the request is made on behalf of the individual, information from the record of the individual concerning his anticipated benefit and concerning the method of calculating that benefit may be disclosed to the labor organization official.

d. Annuity estimates may be released to any court, state agency, or interested party, or the representative of such court, state agency, or interested party, in connection with contemplated or actual legal or administrative proceeding concerning domestic relations and support matters.

DISCLOSURE TO CONSUMER REPORTING AGENCIES:

None.

POLICIES AND PRACTICES FOR STORING, RETRIEVING, ACCESSING, RETAINING, AND DISPOSING OF RECORDS IN THE SYSTEM:

STORAGE:

On-line mainframe system.

RETRIEVABILITY:

Social security number.

SAFEGUARDS:

Magnetic tape and magnetic disk: Computer and computer storage rooms are restricted to authorized personnel; on-line query safeguards include a lock/unlock password system, a terminal oriented transaction matrix, role based access controls and audit trail. For electronic records, system securities are established in accordance with National Institute of Standards and Technology (NIST) guidelines, including network monitoring, defenses in-depth, incident response and forensics. In addition to the on-line query safeguards, they include encryption of all data transmitted and exclusive use of leased telephone lines.

RETENTION AND DISPOSAL:

A maximum of three sets of records (the current and prior two sets) are maintained on-line with the oldest set purged when a new set is produced. When magnetic disk or other electronic media is no longer required or servicable, it is sanitized in accordance with NIST guidelines.

SYSTEM MANAGER(S) AND ADDRESS:

Office of Programs—Director of Policy and Systems, Railroad Retirement Board, 844 Rush Street, Chicago, Illinois 60611-2092.

NOTIFICATION PROCEDURE:

Request for information regarding an individual's record should be in writing, including the full name, social security number and railroad retirement claim number (if any) of the individual. Before information about any record will be released, the individual may be required to provide proof of identity, authorization from the individual to permit release of information. Such requests should be sent to: Office of Programs—Director of Operations, Railroad Retirement Board, 844 Rush Street, Chicago, Illinois 60611-2092.

RECORD ACCESS PROCEDURE:

See Notification section above.

CONTESTING RECORD PROCEDURE:

See Notification section above.

RECORD SOURCE CATEGORIES:

Information which is secured from the original master records is made available to all authorized headquarters and field service users.

EXEMPTIONS CLAIMED FOR THE SYSTEM:

None.

* * * * *

RRB-5

SYSTEM NAME:

Master File of Creditable Service and Compensation of Railroad Employees.

SYSTEM LOCATION:

U.S. Railroad Retirement Board, 844 Rush Street, Chicago, Illinois 60611.

SECURITY CLASSIFICATION:

None.

CATEGORIES OF INDIVIDUALS COVERED BY THE SYSTEM:

All individuals with creditable service under the Railroad Retirement and Railroad Unemployment Insurance Acts.

CATEGORIES OF RECORDS IN THE SYSTEM:

Name, social security number, RRB claim number, annuity beginning date, date of birth, sex, last employer identification number, amount of daily payrate, separation allowance or severance payment, creditable service and compensation after 1937, home address, and date of death.

AUTHORITY FOR MAINTENANCE OF THE SYSTEM:

Section 7(b)(6) of the Railroad Retirement Act of 1974 (45 U.S.C. 231f(b)(6)) and section 12(l) of the Railroad Unemployment Insurance Act (45 U.S.C. 362(l)).

PURPOSE(S):

The purpose of this system is to store railroad earnings of railroad employees which are used to determine entitlement to and amount of benefits payable under the Railroad Retirement Act, the Railroad Unemployment Insurance Act and the Social Security Act, if applicable. The records are updated daily based on earnings reports received from railroad employers and the Social Security Administration and are stored in the Employment Data Maintenance Application database and the Separation Allowance Lump Sum Award (SALSA) Master File.

ROUTINE USES OF RECORDS MAINTAINED IN THE SYSTEM, INCLUDING CATEGORIES OF USERS, AND THE PURPOSES OF SUCH USES:

a. Records may be transferred to the Social Security Administration to correlate disability freeze actions and in the cases where the railroad employees do not acquire 120 creditable service months before retirement or death or have no current connection with the railroad industry, to enable SSA to credit the employee with the compensation and to pay or deny benefits.

b. Yearly service months, cumulative service months, yearly creditable compensation, and cumulative creditable compensation may be released to the employees directly or through their respective employer.

c. Service months and earnings may be released to employers or former employers for correcting or reconstructing earnings records for railroad employees.

d. Employee identification and potential entitlement may be furnished to the Social Security Administration, Bureau of Supplemental Security Income, to Federal, State, and local welfare or public aid agencies to assist them in processing application for benefits under their respective programs.

e. Employee identification and other pertinent information may be released to the Department of Labor in conjunction with payment of benefits under the Federal Coal Mine and Safety Act.

f. The last employer information may be disclosed to the Department of Health and Human Services in conjunction with the Parent Locator Service.

g. Pursuant to a request from an employer covered by the Railroad Retirement Act or the Railroad Unemployment Insurance Act, information, regarding the employee's potential eligibility for unemployment, sickness or retirement benefits may be released to the requesting employer for the purpose of determining entitlement to and the rates of private supplemental pension, sickness or unemployment benefits and to calculate estimated benefits due from the employer.

h. If a request for information pertaining to an individual is made by an official of a labor organization of which the individual is a member and the request is made on behalf of the individual, information from the record of the individual concerning his anticipated benefit may be disclosed to the labor organization official.

i. Records may be disclosed in a court proceeding relating to any claims for benefits by the beneficiary under the Railroad Retirement Act or the Railroad Unemployment Insurance Act and may be disclosed during the course of an administrative appeal to individuals who need the records to prosecute or decide the appeal or to individuals who are requested to provide information relative to an issue involved in the appeal.

j. All records may be disclosed to the Social Security Administration for purposes of administration of the Social Security Act.

k. Service and compensation and last employer information may be furnished, upon request, to state agencies operating unemployment or sickness insurance programs for the purposes of their administering such programs.

l. The name, address and gender of a railroad worker may be released to a Member of Congress when the Member requests it in order that he or she may communicate with the worker about legislation which affects the railroad retirement or railroad unemployment and sickness insurance program.

m. The service history of an employee (such as whether the employee had service before a certain date and whether the employee had at least a given number of years of service) may be disclosed to AMTRAK when such information would be needed by AMTRAK to make a determination whether to award a travel pass to either the employee or the employee's widow.

n. Records may be released to the Internal Revenue Service for the sole purpose of computing the additional Medicare tax shortfall amount. Records released will include the Social Security Number (SSN), employer name and Employer Identification Number (EIN). Records provided shall not be used for IRS audits or any other unauthorized purposes.

DISCLOSURE TO CONSUMER REPORTING AGENCIES:

None.

POLICIES AND PRACTICES FOR STORING, RETRIEVING, ACCESSING, RETAINING, AND DISPOSING OF RECORDS IN THE SYSTEM:

STORAGE:

Paper, Magnetic tape and Magnetic disk.

RETRIEVABILITY:

Social security number, claim number and name.

SAFEGUARDS:

Paper: Maintained in areas not accessible to the public in metal filing cabinents. Offices are locked during non-business hours. Building has 24 hour on-site security officers, closed circuit television monitoring and intrusion detection systems.

Magnetic tape and magnetic disk: Computer and computer storage rooms are restricted to authorized personnel; on-line query safeguards include a lock/unlock password system, a terminal oriented transaction matrix, role based access controls and audit trail. For electronic records, system securities are established in accordance with National Institute of Standards and Technology (NIST) guidelines, including network monitoring, defenses in-depth, incident response and forensics. In addition to the on-line query safeguards, they include encryption of all data transmitted and exclusive use of leased telephone lines.

RETENTION AND DISPOSAL:

Paper: Retained five years and destroyed in accordance with NIST guidelines. Previous years ledger put in storage when current year ledger is complete.

Magnetic tape: Magnetic tape records are retained for 90 days and then written over following NIST guidelines. For disaster recovery purposes certain tapes are stored 12-18 months.

Magnetic disk: Continually updated and permanently retained. When magnetic disk or other electronic media is no longer servicable, it is sanitized in accordance with NIST guidelines.

SYSTEM MANAGER(S) AND ADDRESS:

Office of Programs—Director of Policy and Systems, Railroad Retirement Board, 844 Rush Street, Chicago, Illinois 60611-2092.

NOTIFICATION PROCEDURE:

Requests for information regarding an individual's record should be in writing, including the full name, social security number and railroad retirement claim number (if any) of the individual. Before any information about any record will be released, the individual may be required to provide proof of identity, or authorization from the individual to permit release of information. Requests should be sent to the Office of Programs—Policy & Systems, Chief of Employer Service and Training Center, U.S. Railroad Retirement Board, 844 North Rush Street, Chicago, Illinois 60611-2092.

RECORD ACCESS PROCEDURE:

See Notification section above.

CONTESTING RECORD PROCEDURE:

See Notification section above.

RECORD SOURCE CATEGORIES:

Railroad employer.

EXEMPTIONS CLAIMED FOR THE SYSTEM:

None.

* * * * *

RRB-6

SYSTEM NAME:

Unemployment Insurance Record File.

SYSTEM LOCATION:

U.S. Railroad Retirement Board, 844 North Rush Street, Chicago, Illinois 60611-2092.

SECURITY CLASSIFICATION:

None.

CATEGORIES OF INDIVIDUALS COVERED BY THE SYSTEM:

Claimants for unemployment benefits under the Railroad Unemployment Insurance Act and their respective employers.

CATEGORIES OF RECORDS IN THE SYSTEM:

Development file containing letters from claimants, report of Railroad Unemployment Insurance Act fraud investigations and supporting evidence, erroneous payment investigations, protest and appeal requests and responses.

AUTHORITY FOR MAINTENANCE OF THE SYSTEM:

Section 12(l) of the Railroad Unemployment Insurance Act (45 U.S.C. 362(l)).

PURPOSE(S):

This system of records is used for filing general information about applicants for RUIA benefits. If an applicant files for UI benefits, some of the information in this file will be also placed in the claimants UI file.

ROUTINE USES OF RECORDS MAINTAINED IN THE SYSTEM, INCLUDING CATEGORIES OF USERS, AND THE PURPOSES OF SUCH USES:

a. Beneficiary identifying information may be released to third party contacts to determine if incapacity of the beneficiary or potential beneficiary to understand or use benefits exists, and to determine the suitability of a proposed representative payee.

b. Benefit rate, name and address may be referred to the Treasury Department to control for reclamation and return of outstanding benefit checks, to issue benefit checks, reconcile reports of non-delivery, and to insure delivery of payments to the correct address or account of the beneficiary or representative payee.

c. Beneficiary's name, address, payment rate, date and number, plus supporting evidence may be released to the U.S. Postal Service for investigation of alleged forgery or theft of railroad unemployment or sickness benefit payments.

d. Identifying information such as full name, address, date of birth, social security number, employee identification number, and date last worked, may be released to any last employer to verify entitlement for benefits under the Railroad Unemployment Insurance Act.

e. Pursuant to a request from an employer covered by the Railroad Retirement Act or the Railroad Unemployment Insurance Act, information regarding the Board's payment of unemployment or sickness benefits, the methods by which such benefits are calculated, entitlement data and present address may be released to the requesting employer for the purposes of determining entitlement to and rates of private supplemental pension, sickness or unemployment benefits and to calculate estimated benefits due.

f. Benefit rates and effective dates may be released to the Social Security Administration, Bureau of Supplemental Security Income, to Federal, State and local welfare or public aid agencies to assist them in processing applications for benefits under their respective programs.

g. In the event the Board has determined to designate a person to be the representative payee of an incompetent beneficiary, disclosure of information concerning the benefit amount and other similar information may be made to the representative payee from the record of the individual.

h. Records may be disclosed to the General Accountability Office for auditing purposes and for collection of debts arising from overpayments under the Railroad Unemployment Insurance Act, as amended.

i. The last addresses and employer information may be disclosed to the Department of Health and Human Services in conjunction with the Parent Locator Service.

j. If a request for information pertaining to an individual is made by an official of a labor organization of which the individual is a member and the request is made on behalf of the individual, information from the record of the individual concerning this benefit or anticipated benefit may be disclosed to the labor organization official.

k. Records may be disclosed in a court proceeding relating to any claims for benefits by the beneficiary under the Railroad Unemployment Insurance Act and may be disclosed during the course of an administrative appeal to individuals who need the records to prosecute or decide the appeal or to individuals who are requested to provide information relative to an issue involved in the appeal.

l. Beneficiary identifying and claim period information may be furnished to states for the purpose of their notifying the RRB whether claimants were paid state unemployment or sickness benefits and also whether wages were reported for them. For claimants that a state identifies as having received state unemployment benefits, RRB benefit information may be furnished the state for the purpose of recovery of the amount of the duplicate payments which is made.

DISCLOSURE TO CONSUMER REPORTING AGENCIES:

None.

POLICIES AND PRACTICES FOR STORING, RETRIEVING, ACCESSING, RETAINING, AND DISPOSING OF RECORDS IN THE SYSTEM:

STORAGE: (Updated)

Paper, Magnetic Disk.

RETRIEVABILITY:

Name, social security number.

SAFEGUARDS: (Updated)

Paper: Maintained in areas not accessible to the public in steel filing cabinents and are available only to authorized district office and regional office personnel. Offices are locked during non-business hours. Building has 24 hour on-site security officers, closed circuit television monitoring and intrusion detection systems.

Magnetic tape and magnetic disk: Computer and computer storage rooms are restricted to authorized personnel; on-line query safeguards include a lock/unlock password system, a terminal oriented transaction matrix, role based access controls and audit trail. For computerized records electronically transmitted between headquarters and field office locations, system securities are established in accordance with National Institute of Standards and Technology (NIST) guidelines, including network monitoring, defenses in-depth, incident response and forensics. In addition to the on-line query safeguards, they include encryption of all data transmitted and exclusive use of leased telephone lines.

RETENTION AND DISPOSAL: (Updated)

Paper: Destroy 90 days after the date scanned into the imaging system or after completion of the quality assurance process, whichever is later.

Magnetic Disk: These records will be maintained permanently until their official retention period is established by the National Archives and Records Administration (NARA).

SYSTEM MANAGER(S) AND ADDRESS:

Office of Programs—Director of Policy and Systems, Railroad Retirement Board, 844 Rush Street, Chicago, Illinois 60611-2052.

NOTIFICATION PROCEDURE:

Requests for information regarding an individual's records should be in writing, including full name, social security number, and railroad retirement claim number (if any) of the individual. Before any information about any record will be released, the individual may be required to provide proof of identity or authorization from the individual to permit release of information. Such requests should be sent to: Office of Programs—Director of Unemployment & Program Support Division, Railroad Retirement Board, 844 Rush Street, Chicago, Illinois 60611-2092.

RECORD ACCESS PROCEDURE:

See Notification section above.

CONTESTING RECORD PROCEDURE:

See Notification section above.

RECORD SOURCE CATEGORIES:

Individual claimant or his authorized representative, employers, State employment and unemployment claims records, Federal, and Social Security Administration employer compensation reports.

EXEMPTIONS CLAIMED FOR THE SYSTEM:

None.

* * * * *

RRB-7

SYSTEM NAME:

Applications for Unemployment Benefits and Placement Service under the Railroad Unemployment Insurance Act.

SYSTEM LOCATION:

U.S. Railroad Retirement Board, 844 Rush Street, Chicago, Illinois 60611. District Offices: See Appendix I for addresses.

SECURITY CLASSIFICATION:

None.

CATEGORIES OF INDIVIDUALS COVERED BY THE SYSTEM:

Individuals who have applied for unemployment benefits and employment service.

CATEGORIES OF RECORDS IN THE SYSTEM:

Name, address, account number, age, sex, education, employer, occupation, rate of pay, reason not working and last date worked, personal interview record, results of investigations.

AUTHORITY FOR MAINTENANCE OF THE SYSTEM:

Section 12(l) of the Railroad Unemployment Insurance Act (45 U.S.C. 362(l)).

PURPOSE(S):

The purpose of this system of records is to be used as an individual's UI file. The records contained in the file are pertinent to the individual's claim for unemployment benefits under the RUIA.

ROUTINE USES OF RECORDS MAINTAINED IN THE SYSTEM, INCLUDING CATEGORIES OF USERS, AND THE PURPOSES OF SUCH USES:

a. Selected information may be disclosed to prospective employers for potential job placement.

b. In the event the Board has determined to designate a person to be the representative payee of an incompetent beneficiary, disclosure of information concerning the benefit amount and other similar information may be made to the representative payee from the record of the individual.

c. Beneficiary identification and entitlement information may be released to third party contacts to determine if incapacity of the beneficiary or potential beneficiary to understand or use benefits exists, and to determine the suitability of a proposed representative payee.

d. A record from this system of records may be disclosed to a Federal agency, in response to its request, in connection with the hiring or retention of an employee, the issuance of a security clearance, the reporting of an investigation of an employee, the letting of a contract, or the issuance of a license, grant, or other benefit by the requesting agency, to the extent that the information is relevant and necessary to the requesting agency's decision on the matter, provided that disclosure would be clearly in the furtherance of the interest of the subject individual.

e. Beneficiary identification, entitlement, and benefit rate information may be released to the Treasury Department to control for reclamation and return of outstanding benefit payments, to issue benefit payments, reconcile reports of non-delivery and to insure delivery of payments to the correct address or account of the beneficiary or representative payee.

f. Information may be referred to the U.S. Postal Service for investigation of alleged forgery or theft of railroad unemployment or sickness benefit checks.

g. Beneficiary identification, entitlement, and benefit rate information may be released to the Social Security Administration, Bureau of Supplemental Security Income, to Federal, State, and local welfare or public aid agencies to assist them in processing applications for benefits under their respective programs.

h. The last addresses and employer information may be disclosed to Department of Health and Human Services in conjunction with the Parent Locator Service.

i. Records may be disclosed to the General Accountability Office for auditing purposes and for collection of debts arising from overpayments under the Railroad Unemployment Insurance Act, as amended.

j. Identifying information such as full name, address, date of birth, social security number, employee identification number, and date last worked, may be released to any last employer to verify entitlement for benefits under the Railroad Unemployment Insurance Act.

k. Pursuant to a request from an employer covered by the Railroad Retirement Act or the Railroad Unemployment Insurance Act, information regarding the Board's payment of unemployment or sickness benefits, the methods by which such benefits are calculated, entitlement data and present address will be released to the requesting employer for the purposes of determining entitlement to and rates of private supplemental pension, sickness or unemployment benefits and to calculate estimated benefits due.

l. If a request for information pertaining to an individual is made by an official of a labor organization of which the individual is a member and the request is made on behalf of the individual information from the record of the individual concerning his benefit or anticipated benefit and concerning the method of calculating that benefit may be disclosed to the labor organization official.

m. Records may be disclosed in a court proceeding relating to any claims for benefits by the beneficiary under the Railroad Unemployment Insurance Act and may be disclosed during the course of an administrative appeal to individuals who need the records to prosecute or decide the appeal or to individuals who are requested to provide information relative to an issue involved in the appeal.

DISCLOSURE TO CONSUMER REPORTING AGENCIES:

None.

POLICIES AND PRACTICES FOR STORING, RETRIEVING, ACCESSING, RETAINING, AND DISPOSING OF RECORDS IN THE SYSTEM:

STORAGE:

Paper, Magnetic Tape and Magnetic Disk.

RETRIEVABILITY:

Social security number.

SAFEGUARDS:

Paper: Maintained in areas not accessible to the public in metal filing cabinents. Access is limited to authorizied RRB employees. Offices are locked during non-business hours. Building has 24 hour on-site security officers, closed circuit television monitoring and intrusion detection systems.

Magnetic tape and magnetic disk: Computer and computer storage rooms are restricted to authorized personnel; on-line query safeguards include a lock/unlock password system, a terminal oriented transaction matrix, role based access controls and audit trail. For electronic records, system securities are established in accordance with National Institute of Standards and Technology (NIST) guidelines, including network monitoring, defenses in-depth, incident response and forensics. In addition to the on-line query safeguards, they include encryption of all data transmitted and exclusive use of leased telephone lines.

RETENTION AND DISPOSAL:

In routine cases, held for three years after end of benefit year in which originated. In those with adverse activities (claims denied), held for five years after end of benefit year in which originated. At end of both periods, files are destroyed in accordance with NIST guidance.

Magnetic tape: Magnetic tape records are retained for 90 days and then written over following NIST guidelines. For disaster recovery purposes certain tapes are stored 12-18 months.

Magnetic disk: Retained for at least seven, but no later than ten years after the close of the benefit year. When magnetic disk or other electronic media is no longer required or servicable, it is sanitized in accordance with NIST guidelines.

SYSTEM MANAGER(S) AND ADDRESS:

Office of Programs—Director of Policy and Systems, Railroad Retirement Board, 844 Rush Street, Chicago, Illinois 60611-2092.

NOTIFICATION PROCEDURE:

Requests for information regarding an individual's record should be in writing, including the full name, social security number and railroad retirement claim number (if any) of the individual. Before information about any record will be released, the individual may be required to provide proof of identity, or authorization from the individual to permit release of information. such requests should be sent to: Office of Programs—Director of Unemployment & Program Support Division, Railroad Retirement Board, 844 Rush Street, Chicago, Illinois 60611-2092.

RECORD ACCESS PROCEDURE:

See Notification section above.

CONTESTING RECORD PROCEDURE:

See Notification section above.

RECORD SOURCE CATEGORIES:

Individual applicant or his authorized representative, present and former employers, State and Federal departments of employment security, Social Security Administration and labor organizations.

EXEMPTIONS CLAIMED FOR THE SYSTEM:

None.

* * * * *

RRB-8

SYSTEM NAME:

Railroad Retirement Tax Reconciliation System (Employee Representatives).

SYSTEM LOCATION:

U.S. Railroad Retirement Board, 844 Rush Street, Chicago, Illinois 60611-2092.

SECURITY CLASSIFICATION:

None.

CATEGORIES OF INDIVIDUALS COVERED BY THE SYSTEM:

Railroad employee representatives covered under the Railroad Retirement Act.

CATEGORIES OF RECORDS IN THE SYSTEM:

Form CT-2 Employee Representative's Quarterly Railroad Tax Return.

AUTHORITY FOR MAINTENANCE OF THE SYSTEM:

Section 15 of the Railroad Retirement Act of 1974 (45 U.S.C. 231n).

PURPOSE(S):

The purpose of this system is to ensure that the earnings of employee representatives reported to the Internal Revenue Service for tax purposes agree with earnings reported to the RRB for benefit payment purposes.

ROUTINE USES OF RECORDS MAINTAINED IN THE SYSTEM, INCLUDING CATEGORIES OF USERS, AND THE PURPOSES OF SUCH USES:

a. Earnings information may be released to the Internal Revenue Service and the Treasury Department to refund excess taxes.

b. Records may be disclosed to the Government Accountability Office for auditing purposes.

c. Earnings information may be released to employers or former employers for correcting or reconstructing earnings records for railroad retirement, supplemental or unemployment/sickness employment tax purposes only, not to be construed as an extension of the statutory time limitation to amend such records.

DISCLOSURE TO CONSUMER REPORTING AGENCIES:

None.

POLICIES AND PRACTICES FOR STORING, RETRIEVING, ACCESSING, RETAINING, AND DISPOSING OF RECORDS IN THE SYSTEM:

STORAGE:

Paper.

RETRIEVABILITY:

Name.

SAFEGUARDS:

Maintained in areas not accessible to the public in metal filing cabinents. Access is limited to authorizied RRB employees. Offices are locked during non-business hours. Building has 24 hour on-site security officers, closed circuit television monitoring and intrusion detection systems.

RETENTION AND DISPOSAL:

Employee's representatives' quarterly tax returns and tax reporting reconciliation file are retained for 6 years and 3 months after the period covered by the records and then are destroyed by shredding in accordance with NIST guidelines.

SYSTEM MANAGER(S) AND ADDRESS:

Chief Financial Officer, U.S. Railroad Retirement Board, 844 Rush Street, Chicago, Illinois 60611-2092.

NOTIFICATION PROCEDURE:

Requests for information regarding an individual's record should be in writing addressed to the System Manager identified above, including the full name and social security number. Before information about any record is released, the System Manager may require the individual to provide proof of identity or require the requester to furnish an authorization from the individual to permit release of information.

RECORD ACCESS PROCEDURE:

See Notification section above.

CONTESTING RECORD PROCEDURE:

See Notification section above.

RECORD SOURCE CATEGORIES:

Railroad tax reports, creditable and taxable compensation.

EXEMPTIONS CLAIMED FOR THE SYSTEM:

None.

* * * * *

RRB-9 [Reserved]

* * * * *

RRB-10

SYSTEM NAME:

Legal Opinion and Correspondence Files.

SYSTEM LOCATION:

U.S. Railroad Retirement Board, 844 Rush Street, Chicago, Illinois 60611.

SECURITY CLASSIFICATION:

None.

CATEGORIES OF INDIVIDUALS COVERED BY THE SYSTEM:

Applicants for benefits under the Railroad Retirement Act or the Railroad Unemployment Insurance Act.

CATEGORIES OF RECORDS IN THE SYSTEM:

The files include a copy of the question submitted to the legal department for an opinion and a copy of the response released. Responses may be a formal legal opinion, a letter, or a memorandum. There may be copies of any correspondence between the agency and the individual or his/her employer concerning the question presented.

AUTHORITY FOR MAINTENANCE OF THE SYSTEM:

Section 7(b)(6) of the Railroad Retirement Act of 1974 (45 U.S.C. 231f(b)(6)) and section 12(l) of the Railroad Unemployment Insurance Act (45 U.S.C. 362(l)).

PURPOSE(S):

The RRB needs to collect and maintain information contained in this system of records in order to make decisions regarding the claims for benefits of individuals under various Acts administered by the RRB.

ROUTINE USES OF RECORDS MAINTAINED IN THE SYSTEM, INCLUDING CATEGORIES OF USERS, AND THE PURPOSES OF SUCH USES:

DISCLOSURE TO CONSUMER REPORTING AGENCIES:

None.

POLICIES AND PRACTICES FOR STORING, RETRIEVING, ACCESSING, RETAINING, AND DISPOSING OF RECORDS IN THE SYSTEM:

STORAGE:

Paper.

RETRIEVABILITY:

Name.

SAFEGUARDS:

Maintained in areas not accessible to the public in metal filing cabinents. Offices are locked during non-business hours. Access to files is restricted to RRB attorneys and other authorized Board employees. Building has 24 hour on-site security officers, closed circuit television monitoring and intrusion detection systems.

RETENTION AND DISPOSAL:

Opinions of precedential interest or otherwise of lasting significance, and correspondence related to these opinions are retained permanently. Opinions of limited significance beyond the particular case, and correspondence related to these opinions, are retained in the individual's claim folder, if any, established under the Railroad Retirement Act. When no folder exists, these opinions, are destroyed by shredding 2 years after the date of the last action taken by the Bureau of Law on the matter. Decision documents are scanned and stored in the RRB Imaging System. Imaged documents are destroyed/purges for individual claimant's 7 years after the close of the fiscal year that they are determined to be inactive. Imaged documents and digest cards are stored in the retention and archival Legal Opinion Digitization System. Destruction is performed in accordance with NIST guidelines.

SYSTEM MANAGER(S) AND ADDRESS:

General Counsel, U.S. Railroad Retirement Board, 844 Rush Street, Chicago, Illinois 60611.

NOTIFICATION PROCEDURE:

Requests for information regarding an individual's record should be in writing addressed to the System Manager identified above, including the full name, social security number and claim number of the individual. Before information about any record will be released, the System Manager may require the individual to provide proof of identity or require the requester to furnish an authorization from the individual to permit release of information.

RECORD ACCESS PROCEDURE:

See Notification section above.

CONTESTING RECORD PROCEDURE:

See Notification section above.

RECORD SOURCE CATEGORIES:

The subject person's authorized representative, other record systems maintained by the Railroad Retirement Board, employers.

EXEMPTIONS CLAIMED FOR THE SYSTEM:

None.

* * * * *

RRB-11

SYSTEM NAME:

Files on Concluded Litigation.

SYSTEM LOCATION:

U.S. Railroad Retirement Board, 844 Rush Street, Chicago, Illinois 60611.

SECURITY CLASSIFICATION:

None.

CATEGORIES OF INDIVIDUALS COVERED BY THE SYSTEM:

Railroad employees, retired railroad employees, and individuals with some creditable railroad service who are involved in litigation in which the Railroad Retirement Board has some interest as a party or otherwise.

CATEGORIES OF RECORDS IN THE SYSTEM:

Legal briefs, reports on legal or factual issues involving copies of subpoenas which may have been issued, copies of any motions filed, transcripts of any depositions taken, garnishment process, correspondence received and copies of any correspondence released by the Board pertaining to the case, copies of any court rulings, and copies of the final decision in the case.

AUTHORITY FOR MAINTENANCE OF THE SYSTEM:

Section 7(b)(6) of the Railroad Retirement Act of 1974 (45 U.S.C. 231f(b)(6)) and section 12(l) of the Railroad Unemployment Insurance Act (45 U.S.C. 362(l)).

PURPOSE(S):

The RRB needs to collect and maintain records of concluded litigation to which the RRB was a party.

ROUTINE USES OF RECORDS MAINTAINED IN THE SYSTEM, INCLUDING CATEGORIES OF USERS, AND THE PURPOSES OF SUCH USES:

DISCLOSURE TO CONSUMER REPORTING AGENCIES:

None.

POLICIES AND PRACTICES FOR STORING, RETRIEVING, ACCESSING, RETAINING, AND DISPOSING OF RECORDS IN THE SYSTEM:

STORAGE:

Paper.

RETRIEVABILITY:

Name.

SAFEGUARDS:

Maintained in areas not accessible to the public in metal filing cabinents. Offices are locked during non-business hours. Access to files is restricted to RRB attorneys and other authorized Board employees. Building has 24 hour on-site security officers, closed circuit television monitoring and intrusion detection systems.

RETENTION AND DISPOSAL:

Files relating to cases of precedential interest are retained permanently. Files of cases involving routine matters, other than garnishments, are retained for 5 years after the case is closed, then shredded. Files relating to garnishment of benefits are retained until 2 years after the date garnishment terminates, then destroyed. Destruction is performed in accordance with NIST guidelines.

SYSTEM MANAGER(S) AND ADDRESS:

General Counsel, U.S. Railroad Retirement Board, 844 Rush Street, Chicago, Illinois 60611.

NOTIFICATION PROCEDURE:

Requests for information regarding an individual's record should be in writing addressed to the System Manager identified above, including the full name and social security number and claim number of the individual. Before information about any record will be released, the System Manager may require the individual to provide proof of identity or require the requester to furnish an authorization from the individual to permit release of information.

RECORD ACCESS PROCEDURE:

See Notification section above.

CONTESTING RECORD PROCEDURE:

See Notification section above.

RECORD SOURCE CATEGORIES:

The individual himself or his authorized representative, other record systems maintained by the Railroad Retirement Board, employers, the Social Security Administration.

EXEMPTIONS CLAIMED FOR THE SYSTEM:

None.

* * * * *

RRB-12

SYSTEM NAME:

Railroad Employees' Registration File.

SYSTEM LOCATION:

U.S. Railroad Retirement Board, 844 Rush Street, Chicago, Illinois 60611.

SECURITY CLASSIFICATION:

None.

CATEGORIES OF INDIVIDUALS COVERED BY THE SYSTEM:

Individuals who had any employment for a railroad employer after 1936 who were assigned Social Security Numbers beginning with 700 through 728. (Use of the registration form was discontinued January 1, 1981.)

CATEGORIES OF RECORDS IN THE SYSTEM:

Railroad employee's name, address, social security number, date of birth, place of birth, mother's and father's names, sex, occupation and employer.

AUTHORITY FOR MAINTENANCE OF THE SYSTEM:

Section 7(b)(6) of the Railroad Retirement Act of 1974 (45 U.S.C. 231f(b)(6)).

PURPOSE(S):

The purpose of the system is to provide information on railroad employees who completed Carrier Employee Registration forms (CER-1) to apply for a Social Security number (SSN). The information on these CER-1 forms was available only at the Railroad Retirement Board.

ROUTINE USES OF RECORDS MAINTAINED IN THE SYSTEM, INCLUDING CATEGORIES OF USERS, AND THE PURPOSES OF SUCH USES:

a. Records which consist of name, date and place of birth, social security number, and parents' names may be disclosed to the Social Security Administration to verify social security number and date of birth.

b. Records may be disclosed in a court proceeding relating to any claims for benefits by the beneficiary under the Railroad Retirement Act, or Unemployment Insurance Act and may be disclosed during the course of an administrative appeal to individuals who need the records to prosecute or decide the appeal or to individuals who are requested to provide information relative to an issue involved in the appeal.

DISCLOSURE TO CONSUMER REPORTING AGENCIES:

None.

POLICIES AND PRACTICES FOR STORING, RETRIEVING, ACCESSING, RETAINING, AND DISPOSING OF RECORDS IN THE SYSTEM:

STORAGE:

Microfiche.

RETRIEVABILITY:

Social security number.

SAFEGUARDS:

Maintained in areas not accessible to the public in metal filing cabinents. Access is limited to authorizied RRB employees. Offices are locked during non-business hours. Building has 24 hour on-site security officers, closed circuit television monitoring and intrusion detection systems.

RETENTION AND DISPOSAL:

Permanent retention.

SYSTEM MANAGER(S) AND ADDRESS:

Office of Programs—Director of Policy and Systems, Railroad Retirement Board, 844 Rush Street, Chicago, Illinois 60611-2092.

NOTIFICATION PROCEDURE:

Requests for information regarding an individual's record should be in writing addressed to the System Manager identified above, including the full name and social security number and claim number of the individual. Before information about any record will be released, the System Manager may require the individual to provide proof of identity or require the requester to furnish an authorization from the individual to permit release of information.

RECORD ACCESS PROCEDURE:

See Notification section above.

CONTESTING RECORD PROCEDURE:

See Notification section above.

RECORD SOURCE CATEGORIES:

Railroad employee and employer.

EXEMPTIONS CLAIMED FOR THE SYSTEM:

None.

* * * * *

RRB-13-15 [Reserved]

* * * * *

RRB-16

SYSTEM NAME:

Social Security Administration Master Earnings File.

SYSTEM LOCATION:

U.S. Railroad Retirement Board, 844 Rush Street, Chicago, Illinois 60611.

SECURITY CLASSIFICATION:

None.

CATEGORIES OF INDIVIDUALS COVERED BY THE SYSTEM:

Employees who have at least 48 creditable service months under the Railroad Retirement Act (RRA) or who attain eligibility for RRA benefits when military service is included as creditable railroad service.

CATEGORIES OF RECORDS IN THE SYSTEM:

Social security account number, name, date of birth, gender, social security claim status, details of earnings and periods of employment that are creditable under the Social Security Act for years after 1936.

AUTHORITY FOR MAINTENANCE OF THE SYSTEM:

Section 7(b)(6) of the Railroad Retirement Act of 1974 (45 U.S.C. 231(b)(6)).

PURPOSE(S):

The purpose of this system of records is to have Social Security Act earnings information available to RRB benefit programs for determinations related to RRA benefit entitlement and amount. The records are stored in the Employment Data Maintenance database.

ROUTINE USES OF RECORDS MAINTAINED IN THE SYSTEM, INCLUDING CATEGORIES OF USERS, AND THE PURPOSES OF SUCH USES:

Internal RRB Use.

DISCLOSURE TO CONSUMER REPORTING AGENCIES:

None.

POLICIES AND PRACTICES FOR STORING, RETRIEVING, ACCESSING, RETAINING, AND DISPOSING OF RECORDS IN THE SYSTEM:

STORAGE:

Mainframe computer database.

RETRIEVABILITY:

Social security account number and name.

SAFEGUARDS:

Computer and computer storage rooms are restricted to authorized personnel; on-line query safeguards include a lock/unlock password system, a terminal oriented transaction matrix, role based access controls and audit trail. For electronic records, system securities are established in accordance with National Institute of Standards and Technology (NIST) guidelines, including network monitoring, defenses in-depth, incident response and forensics. In addition to the on-line query safeguards, they include encryption of all data transmitted and exclusive use of leased telephone lines.

RETENTION AND DISPOSAL:

Updates are made to database weekly using files transmitted to RRB from SSA over encrypted, exclusively leased telephone lines.

Magnetic tape: Magnetic tape records are retained for 90 days and then written over following NIST guidelines. For disaster recovery purposes certain tapes are stored 12-18 months.

Magnetic disk: Continually updated and permanently retained. When magnetic disk or other electronic media is no longer required or serviceable, it is sanitized in accordance with NIST guidelines.

SYSTEM MANAGER(S) AND ADDRESS:

Office of Programs—Director of Policy and Systems, Railroad Retirement Board, 844 Rush Street, Chicago, Illinois 60611-2092.

NOTIFICATION PROCEDURE:

Requests for information regarding an individual's record should be in writing, including the full name, social security number and railroad retirement claim number(if any) of the individual. Before information about any record will be released, the individual may be required to provide proof of identity, or authorization from the individual to permit release of information. Such requests should be sent to: Office of Programs—Policy & Systems, Chief of Compensation & Employer Services, Railroad Retirement Board, 844 Rush Street, Chicago, Illinois 60611-2092.

RECORD ACCESS PROCEDURE:

See Notification section above.

CONTESTING RECORD PROCEDURE:

See Notification section above.

RECORD SOURCE CATEGORIES:

Social Security Administration.

EXEMPTIONS CLAIMED FOR THE SYSTEM:

None.

* * * * *

RRB-17

SYSTEM NAME:

Appeal Decisions from Reconsideration Denials for Benefits Under the Provisions of the Railroad Retirement Act or the Railroad Unemployment Insurance Act.

SYSTEM LOCATION:

U.S. Railroad Retirement Board, 844 Rush Street, Chicago, Illinois 60611.

SECURITY CLASSIFICATION:

None.

CATEGORIES OF INDIVIDUALS COVERED BY THE SYSTEM:

Appellants under the provisions of the Railroad Retirement Act and the Railroad Unemployment Insurance Act.

CATEGORIES OF RECORDS IN THE SYSTEM: (Updated)

Name, address, social security number, date of birth of appellant, decision of the hearings officer.

AUTHORITY FOR MAINTENANCE OF THE SYSTEM:

Section 7(b)(6) of the Railroad Retirement Act of 1974 (45 U.S.C. 231f(b)(6); sec. 12(l) of the Railroad Unemployment Insurance Act (45 U.S.C. 362(l)).

PURPOSE(S): (Updated)

Records are maintained to record appeals decisions issued by the Bureau of Hearings and Appeals regarding entitlement to benefits, waiver of overpayments, and issues of law under the Railroad Retirement Act and Railroad Unemployment Insurance Act.

ROUTINE USES OF RECORDS MAINTAINED IN THE SYSTEM, INCLUDING CATEGORIES OF USERS, AND THE PURPOSES OF SUCH USES: (Updated)

a. If a request for information pertaining to an individual is made by an official of a labor organization of which the individual is a member and the request is made on behalf of the individual, information from the record of the individual concerning his benefit or anticipated benefit and concerning the method of calculating that benefit may be disclosed to the labor organization official.

b. Records may be disclosed in a court proceeding relating to any claims for benefits by the beneficiary under the Railroad Retirement Act and Railroad Unemployment Insurance Act.

c. Records may be disclosed during the course of an administrative appeal to individuals who need the records to prosecute or decide the appeal or to individuals who are requested to provide information relative to an issue involved in the appeal, such as the attorney or representative of the appellant, a vocational expert, or medical professionals.

DISCLOSURE TO CONSUMER REPORTING AGENCIES:

None.

POLICIES AND PRACTICES FOR STORING, RETRIEVING, ACCESSING, RETAINING, AND DISPOSING OF RECORDS IN THE SYSTEM:

STORAGE: (Updated)

Paper, magnetic tape and disk.

RETRIEVABILITY:

Claim number or social security number, Bureau of Hearings and Appeals appeal number, or Bureau of Hearings and Appeal decision number.

SAFEGUARDS:

Paper: Maintained in areas not accessible to the public in metal filing cabinents. Access is limited to authorizied RRB employees. Offices are locked during non-business hours. Building has 24 hour on-site security officers, closed circuit television monitoring and intrusion detection systems.

Magnetic tape and magnetic disk: Computer and computer storage rooms are restricted to authorized personnel; on-line query safeguards include a lock/unlock password system, a terminal oriented transaction matrix, role based access controls and audit trail. For electronic records, system securities are established in accordance with National Institute of Standards and Technology (NIST) guidelines, including network monitoring, defenses in-depth, incident response and forensics. In addition to the on-line query safeguards, they include encryption of all data transmitted and exclusive use of leased telephone lines.

RETENTION AND DISPOSAL:

The decisions maintained in the Bureau of Hearings and Appeals are retained for a period of 2 years and then destroyed by shredding in accordance with NIST guidelines. Decision documents are scanned and stored in the RRB Imaging System. Imaged documents are destroyed/purged for individual claimant's 7 years after the close of the fiscal year that they are determined to be inactive.

SYSTEM MANAGER(S) AND ADDRESS:

Assistant General Counsel/Director of Hearings and Appeals, U.S. Railroad Retirement Board, 844 Rush Street, Chicago, Illinois 60611.

NOTIFICATION PROCEDURE:

Requests for information regarding an individual's record should be in writing addressed to the System Manager identified above, including the full name and social security number and claim number of the individual. Before information about any record will be released, the System Manager may require the individual to provide proof of identity or require the requester to furnish an authorization from the individual to permit release of information.

RECORD ACCESS PROCEDURE:

See Notification section above.

CONTESTING RECORD PROCEDURE:

See Notification section above.

RECORD SOURCE CATEGORIES:

Information furnished by the appellant or his/her authorized representative, information developed by the hearings officer relevant to the appeal, and information contained in other record systems maintained by the Railroad Retirement Board.

EXEMPTIONS CLAIMED FOR THE SYSTEM:

None.

* * * * *

RRB-18

SYSTEM NAME:

Miscellaneous Payments paid/posted to the General Ledger by the Financial Management Integrated System (FMIS).

SYSTEM LOCATION:

U.S. Railroad Retirement Board, 844 Rush Street, Chicago, Illinois 60611.

SECURITY CLASSIFICATION:

None.

CATEGORIES OF INDIVIDUALS COVERED BY THE SYSTEM:

Railroad Retirement Board employees.

CATEGORIES OF RECORDS IN THE SYSTEM:

Travel vouchers, miscellaneous reimbursement vouchers.

AUTHORITY FOR MAINTENANCE OF THE SYSTEM:

Section 7(b)(6) of the Railroad Retirement Act of 1974 (45 U.S.C. 231f(b)(6)) and Section 12(l) of the Railroad Unemployment Insurance Act (45 U.S.C. 362(l)).

PURPOSE(S):

The system is used to pay the operating expenses of the agency and reimbursements as needed to employees. Payment is made to vendors for goods and services. Employees are reimbursed for expenses related to the performance of their jobs. Payments are made within Federal limits and applicable guidelines.

ROUTINE USES OF RECORDS MAINTAINED IN THE SYSTEM, INCLUDING CATEGORIES OF USERS, AND THE PURPOSES OF SUCH USES:

a. Identifying information and check amount may be released to the Treasury Department to issue checks.

b. Records may be disclosed to the General Accountability Office for auditing purposes.

c. Identifying information, check number, date and amount may be released to the U.S. Postal Service for investigation of alleged forgery or theft of reimbursement checks.

DISCLOSURE TO CONSUMER REPORTING AGENCIES:

None.

POLICIES AND PRACTICES FOR STORING, RETRIEVING, ACCESSING, RETAINING, AND DISPOSING OF RECORDS IN THE SYSTEM:

STORAGE:

Paper, Magnetic tape and Magnetic disk.

RETRIEVABILITY:

Name.

SAFEGUARDS:

Paper: Maintained in areas not accessible to the public in metal filing cabinents. Access is limited to authorizied RRB employees. Offices are locked during non-business hours. Building has 24 hour on-site security officers, closed circuit television monitoring and intrusion detection systems.

Magnetic tape and magnetic disk: Computer and computer storage rooms are restricted to authorized personnel; on-line query safeguards include a lock/unlock password system, a terminal oriented transaction matrix, role based access controls and audit trail. For electronic records, system securities are established in accordance with National Institute of Standards and Technology (NIST) guidelines, including network monitoring, defenses in-depth, incident response and forensics. In addition to the on-line query safeguards, they include encryption of all data transmitted and exclusive use of leased telephone lines.

RETENTION AND DISPOSAL:

Paper. Retain at headquarters for two years then transferred to National Archives and Records Administration (NARA), Great Lakes Federal Records Center. The General Services Administration will destroy the records when authorized by the Government Accountability Office.

Magnetic tape: Magnetic tape records are retained for 90 days and then written over following NIST guidelines. For disaster recovery purposes certain tapes are stored 12-18 months.

Magnetic disk: Continually updated and permanently retained. When magnetic disk or other electronic media is no longer required or servicable, it is sanitized in accordance with NIST guidelines.

SYSTEM MANAGER(S) AND ADDRESS:

Chief Financial Officer, U.S. Railroad Retirement Board, 844 Rush Street, Chicago, Illinois 60611-2092.

NOTIFICATION PROCEDURE:

Requests for information regarding an individual's record should be in writing addressed to the System Manager identified above, including the full name and social security number and claim number of the individual. Before information about any record will be released, the System Manager may require the individual to provide proof of identity or require the requester to furnish an authorization from the individual to permit release of information.

RECORD ACCESS PROCEDURE:

See Notification section above.

CONTESTING RECORD PROCEDURE:

See Notification section above.

RECORD SOURCE CATEGORIES:

Employees travel records, memoranda from bureau directors and office heads. Form G-409 Request for Reimbursement of Commuiting Expenses and Form G-753 Application for Reimbursement of Medical and/or Eye Examination Fees.

EXEMPTIONS CLAIMED FOR THE SYSTEM:

None.

* * * * *

RRB-19

SYSTEM NAME:

Transit Benefit Program Records System.

SYSTEM LOCATION:

U.S. Railroad Retirement Board, 844 Rush Street, Chicago, Illinois 60611.

SECURITY CLASSIFICATION:

None.

CATEGORIES OF INDIVIDUALS COVERED BY THE SYSTEM:

Railroad Retirement Board employees.

CATEGORIES OF RECORDS IN THE SYSTEM:

Supporting documentation relating to participation in the agency's transit benefit program.

AUTHORITY FOR MAINTENANCE OF THE SYSTEM:

5 U.S.C. 301, 1302; 26 U.S.C. 132(f); and Executive Order 9397.

PURPOSE(S):

The purpose of this system is to maintain employee data related to eligibility and participation in the agency's transit benefit program.

ROUTINE USES OF RECORDS MAINTAINED IN THE SYSTEM, INCLUDING CATEGORIES OF USERS, AND THE PURPOSES OF SUCH USES:

Transit benefit program documentation may be furnished to the Internal Revenue Service for tax administration purposes.

DISCLOSURE TO CONSUMER REPORTING AGENCIES:

None.

POLICIES AND PRACTICES FOR STORING, RETRIEVING, ACCESSING, RETAINING, AND DISPOSING OF RECORDS IN THE SYSTEM: STORAGE:

Paper.

RETRIEVABILITY:

Name.

SAFEGUARDS:

Maintained in areas not accessible to the public in metal filing cabinents. Access is limited to authorizied RRB employees. Information released only at employee's request or to approved federal authorities. Offices are locked during non-business hours. Building has 24 hour on-site security officers, closed circuit television monitoring and intrusion detection systems.

RETENTION AND DISPOSAL:

Retained for three years and then destroyed by shredding in accordance with NIST guidelines.

SYSTEM MANAGER(S) AND ADDRESS:

Chief Financial Officer, U.S. Railroad Retirement Board, 844 Rush Street, Chicago, Illinois. 60611-2092.

NOTIFICATION PROCEDURE:

Requests for information regarding an individual's record should be in writing addressed to the System Manager identified above, including the full name and social security number of the individual. Before information about any record will be released, the System Manager may require the individual to provide proof of identity or require the requester to furnish an authorization from the individual to permit release of information.

RECORD ACCESS PROCEDURE:

See Notification section above.

CONTESTING RECORD PROCEDURE:

See Notification section above.

RECORD SOURCE CATEGORIES:

Form G-409 Railroad Retirement Board Request for Reimbursement of Commuting Expenses and Form G-410, Railroad Retirement Board Transportation Benefit Program Application.

EXEMPTIONS CLAIMED FOR THE SYSTEM:

None.

* * * * *

RRB-20

SYSTEM NAME:

Health Insurance and Supplementary Medical Insurance Enrollment and Premium Payment System (MEDICARE).

SYSTEM LOCATION:

U.S. Railroad Retirement Board, 844 Rush Street, Chicago, Illinois 60611.

District and Regional Offices: See Appendix I for addresses.

SECURITY CLASSIFICATION:

None.

CATEGORIES OF INDIVIDUALS COVERED BY THE SYSTEM:

Qualified Railroad Retirement beneficiaries who are eligible for Medicare coverage.

CATEGORIES OF RECORDS IN THE SYSTEM:

Claim number, social security number, name, address, type of beneficiary under the Railroad Retirement Act, date of birth, method of Supplementary Medical Insurance premium payment, enrollment status, amount of premium, paid-thru date, third party premium payment information, coverage jurisdiction determination, direct premium billing and premium refund accounting, correspondence from beneficiaries.

AUTHORITY FOR MAINTENANCE OF THE SYSTEM:

Section 7(d) of the Railroad Retirement Act of 1974 (45 U.S.C. 231f(d)).

PURPOSE(S):

Records in this system are maintained to administer Title XVIII of the Social Security Act for qualified railroad retirement beneficiaries.

ROUTINE USES OF RECORDS MAINTAINED IN THE SYSTEM, INCLUDING CATEGORIES OF USERS, AND THE PURPOSES OF SUCH USES:

a. Beneficiary identification, enrollment status and premium deductions information may be released to the Social Security Administration and the Centers for Medicare & Medicaid Services to correlate actions with the administration of Title II and Title XVIII (MEDICARE) of the Social Security Act.

b. Beneficiary identification may be disclosed to third party contacts to determine if incapacity of the beneficiary or potential beneficiary to understand or use benefits exists, and to determine the suitability of a proposed representative payee.

c. In the event the Board has determined to designate a person to be the representative payee of an incompetent beneficiary, disclosure of information concerning the benefit amount and other similar information may be made from the record of the individual to the representative payee.

d. Data may be disclosed to Department of Health and Human Services for reimbursement for work done under reimbursement provisions of Title XVIII of the Social Security Act, as amended.

e. Jurisdictional clearance, premium rates, coverage election, paid-through date, and amounts of payments in arrears may be released to the Social Security Administration and the Centers for Medicare & Medicaid Services to assist those agencies in administering Title XVIII of the Social Security Act, as amended.

f. Beneficiary identifying information, date of birth, sex, premium rate paid thru date, and Medicare Part A and Part B entitlement date/end date may be disclosed to effect state buy-in and third party premium payments.

g. Payment data may be disclosed to consultants to determine reasonable charges for hospital insurance payments in Canada.

h. Entitlement data may be disclosed to primary beneficiaries regarding secondary beneficiaries (or vice versa) when the addition of such beneficiary affects entitlement.

i. Beneficiary last address information may be disclosed to Department of Health and Human Services in conjunction with the Parent Locator Service.

j. Beneficiary identification, entitlement data and rate information may be released to the Department of State and embassy officials, to the American Institute on Taiwan, and to the Veterans Administration Regional Office, Philippines, to aid in the development of applications, supporting evidence and the continued eligibility of beneficiaries and potential beneficiaries living abroad.

k. Records may be released to the General Accountability Office for auditing purposes and for collection of debts arising from overpayments under Title XVIII of the Social Security Act, as amended.

l. Pursuant to a request from an employer covered by the Railroad Retirement Act or the Railroad Unemployment Insurance Act, or from an insurance company acting as an agent of an employer, information regarding the RRB's determination of Medicare entitlement, entitlement data, and present address may be released to the requesting employer or insurance company acting as its agent for the purposes of either determining entitlement to and rates of supplemental benefits under private employer welfare benefit plans or complying with requirements of law covering the Medicare program.

m. If a request for information pertaining to an individual is made by an official of a labor organization of which the individual is a member and the request is made on behalf of the individual, information from the record of the individual concerning his or her entitlement to Medicare may be disclosed to the labor organization official.

n. Records may be disclosed in a court proceeding relating to any claims for benefits by the beneficiary under the Railroad Retirement Act, or Social Security Act and may be disclosed during the course of an administrative appeal to individuals who need the records to prosecute or decide the appeal or to individuals who are requested to provide information relative to an issue involved in the appeal.

o. Information may be disclosed to the Department of the Treasury for the purpose of investigating alleged forgery or theft of Medicare reimbursement checks.

p. Information may be disclosed to the U.S. Postal Service for investigating alleged forgery or theft of Medicare checks.

q. Identifying information about Medicare-entitled beneficiaries who may be working may be disclosed to the Centers for Medicare & Medicaid Services for the purposes of determining whether Medicare should be the secondary payer of benefits for such individuals.

r. Whether a qualified railroad retirement beneficiary is enrolled in Medicare Part A or Part B, and if so, the effective date(s) of such enrollment may be disclosed to a legitimate health care provider, in response to its request, when such information is needed to verify Medicare enrollment.

DISCLOSURE TO CONSUMER REPORTING AGENCIES:

None.

POLICIES AND PRACTICES FOR STORING, RETRIEVING, ACCESSING, RETAINING, AND DISPOSING OF RECORDS IN THE SYSTEM:

STORAGE:

Paper, Microfilm, Optical, Magnetic tape and Magnetic disk.

RETRIEVABILITY:

Claim number, social security number, full name.

SAFEGUARDS:

Paper, Microforms and Optical: Maintained in areas not accessible to the public in metal filing cabinents. Access is limited to authorizied RRB employees. Offices are locked during non-business hours. Building has 24 hour on-site security officers, closed circuit television monitoring and intrusion detection systems.

Magnetic tape and disks: Computer and computer storage rooms are restricted to authorized personnel; on-line query safeguards include a lock/unlock password system, a terminal oriented transaction matrix, role based access controls and audit trail. For electronic records, system securities are established in accordance with National Institute of Standards and Technology (NIST) guidelines, including network monitoring, defenses in-depth, incident response and forensics. In addition to the on-line query safeguards, they include encryption of all data transmitted and exclusive use of leased telephone lines.

RETENTION AND DISPOSAL:

Paper: Computer printouts, including daily and monthly statistics, premium payment listings, state-buy-in listings and voucher listings are kept for 2 years, transferred to the Federal Records Center, and destroyed when 5 years old. Other copies of computer printouts are maintained for 1 year, then shredded. Applications material in individual claim folders with records of all actions pertaining to the payment or denial or claims are transferred to the Federal Record Center, Chicago, Illinois 5 years after the date of last payment or denial activity if all benefits have been paid, no future eligibility is apparent and no erroneous payments are outstanding. The claim folder is destroyed 25 years after the date it is received in the center. Destruction is in accordance with NIST guidelines.

Microfilm and Optical Media: Originals are kept for 3 years, transferred to the Federal Records Center and destroyed 3 years and 3 months after receipt at the center. One copy is kept 3 years then destroyed when 6 months old or no longer needed for administrative use, whichever is sooner. Destruction is in accordance with NIST guidelines.

Magnetic tape: Records are retained for 90 days and then written over following NIST guidelines. For disaster recovery purposes certain tapes are stored 12-18 months.

Magnetic disk: Continually updated and retained for at least 7 but not more than 10 years after the close of the benefit year. When magnetic disk or other electronic media is no longer required or servicable, it is sanitized in accordance with NIST guidelines.

SYSTEM MANAGER(S) AND ADDRESS:

Office of Programs—Director of Policy and Systems, Railroad Retirement Board, 844 Rush Street, Chicago, Illinois 60611-2092.

NOTIFICATION PROCEDURE:

Requests for information regarding an individual's records should be in writing, including the full name, social security number and railroad retirement claim number (if any) of the individual. Before information about any record will be released, the individual may be required to provide proof of identity, or authorization from the individual to permit release of information. Such requests should be sent to: Director of Unemployment & Programs Support Division, Railroad Retirement Board, 844 Rush Street, Chicago, Illinois 60611-2092.

RECORD ACCESS PROCEDURE:

See Notification section above.

CONTESTING RECORD PROCEDURE:

See Notification section above.

RECORD SOURCE CATEGORIES:

Applicant (the qualified railroad beneficiary), his/her representative, Social Security Administration, Centers for Medicare & Medicaid Services, Federal, State or local agencies, third party premium payers, all other Railroad Retirement Board files, physicians.

EXEMPTIONS CLAIMED FOR THE SYSTEM:

None.

* * * * *

RRB-21

SYSTEM NAME:

Railroad Unemployment and Sickness Insurance Benefit System.

SYSTEM LOCATION:

U.S. Railroad Retirement Board, 844 Rush Street, Chicago, Illinois 60611. Regional and District Offices: See Appendix I for addresses.

SECURITY CLASSIFICATION:

None.

CATEGORIES OF INDIVIDUALS COVERED BY THE SYSTEM:

Applicants and claimants for unemployment and sickness (including maternity) benefits under the Railroad Unemployment Insurance Act: Some railroad employees injured at work who did not apply for Railroad Unemployment Insurance Act benefits; all railroad employees paid separation allowances.

CATEGORIES OF RECORDS IN THE SYSTEM:

Information pertaining to payment or denial of an individual's claim for benefits under the Railroad Unemployment Insurance Act: Name, address, sex, social security number, date of birth, total months of railroad service (including creditable military service), total creditable compensation for base year, last employer and date last worked before applying for benefits, last rate of pay in base year, reason not working, applications and claims filed, benefit information for each claim filed, disqualification periods and reasons for disqualification, entitlement to benefits under other laws, benefit recovery information about personal injury claims and pay for time not worked, medical reports, placement data, correspondence and telephone inquiries to and about the claimant, record of protest or appeal by claimant of adverse determinations made on his claims.

AUTHORITY FOR MAINTENANCE OF THE SYSTEM:

Section 12(l) of the Railroad Unemployment Insurance Act (45 U.S.C. 351, et seq.).

PURPOSE(S):

The purpose of this system of records is to carry out the function of collecting and storing information in order to administer the benefit program under the Railroad Unemployment Insurance Act.

ROUTINE USES OF RECORDS MAINTAINED IN THE SYSTEM, INCLUDING CATEGORIES OF USERS, AND THE PURPOSES OF SUCH USES:

a. Beneficiary identifying information may be disclosed to third party contacts to determine if incapacity of the beneficiary or potential beneficiary to understand or use benefits exists, and to determine the suitability of a proposed representative payee.

b. In the event the Board has determined to designate a person to be the representative payee of an incompetent beneficiary, disclosure of information concerning the benefit amount and other similar information may be made to the representative payee from the record of the individual.

c. Beneficiary identifying information, address, check rate, date and number may be released to the Treasury Department to control for reclamation and return outstanding benefit payments, to issue benefit payments, respond to reports of non-delivery and to insure delivery of check to the correct address or account of the beneficiary or representative payee.

d. Beneficiary identifying information, address, payment rate, date and number, plus other necessary supporting evidence may be released to the U.S. Postal Service for investigation of alleged forgery or theft of railroad unemployment/sickness benefit payments.

e. A record from this system of records may be disclosed to a Federal agency, in response to its request, in connection with the hiring or retention of an employee, the issuance of a security clearance, the reporting of an investigation of an employee, the letting of a contract, the issuance of a license, grant, or other benefit by the requesting agency, to the extent that the information is relevant and necessary to the requesting agency's decision in the matter, provided that disclosure would be clearly in the furtherance of the interest of the subject individual.

f. Under Section 2(f), the Railroad Retirement Board has the right to recover benefits paid to an employee who later receives remuneration for the same period, therefore, the Railroad Retirement Board may notify the person or company paying the remuneration of the Board's right to recovery and the amount of benefits to be refunded.

g. Under Section 12(o), the Railroad Retirement Board is entitled to reimbursement of sickness benefits paid on account of the infirmity for which damages are paid, consequently, the Railroad Retirement Board may send a notice of lien to the liable party, and, upon request by the liable party, advise the amount of benefits subject to reimbursement.

h. Beneficiary identifying information, rate and entitlement data may be released to the Social Security Administration to correlate actions with the administration of the Social Security Act.

i. The last addresses and employer information may be released to Department of Health and Human Services in conjunction with the Parent Locator Service.

j. Benefit rate, entitlement and periods paid may be disclosed to the Social Security Administration, Bureau of Supplemental Security Income to federal, state and local welfare or public aid agencies to assist them in processing applications for benefits under their respective programs.

k. Beneficiary identifying information, entitlement, rate and other pertinent data may be released to the Department of Labor in conjunction with payment of benefits under the Federal Coal Mine and Safety Act.

l. Records may be referred to the General Accountability Office for auditing purposes and for collection of debts arising from overpayments under the Railroad Unemployment Insurance Act.

m. If a request for information pertaining to an individual is made by an official of a labor organization, of which the individual is a member, information from the record of the individual concerning his benefit or anticipated benefit and concerning the method of calculating that benefit may be disclosed to the labor organization official.

n. Pursuant to a request from an employer covered by the Railroad Retirement Act or the Railroad Unemployment Insurance Act, or from an organization under contract to an employer or employers, information regarding the Board's payment of unemployment or sickness benefits, the methods by which such benefits are calculated, entitlement data and present address may be released to the requesting employer or the organization under contract to an employer or employers for the purposes of determining entitlement to and rates of private supplemental pension, sickness or unemployment benefits and to calculate estimated benefits due.

o. Records may be disclosed in a court proceeding relating to any claims for benefits by the beneficiary under the Railroad Unemployment Insurance Act and may be disclosed during the course of an administrative appeal to individuals who need the records to prosecute or decide the appeal or to individuals who are requested to provide information relative to an issue involved in the appeal.

p. Beneficiary identifying information, entitlement data, benefit rates and periods paid may be released to the Veterans Administration to verify continued entitlement to benefits.

q. Identifying information such as full name, social security number, employee identification number, date last worked, occupation, and location last worked may be released to any last employer to verify entitlement for benefits under the Railroad Unemployment Insurance Act.

r. The amount of unemployment benefits paid, if 10 dollars or more in a calendar year, and claimant identifying information, may be furnished to the Internal Revenue Service for tax administration purposes.

s. The name and address of a claimant may be released to a Member of Congress when the Member requests it in order that he or she may communicate with the claimant about legislation which affects the railroad unemployment insurance system.

t. Beneficiary identifying and claim period information may be furnished to states for the purposes of their notifying the RRB whether claimants were paid state unemployment or sickness benefits and also whether wages were reported for them. For claimants that a state identifies as having received state unemployment or sickness benefits, RRB benefit information may be furnished the state for the purpose of recovery of the amount of the duplicate payments which is made.

u. The amount of each sickness benefit that is subject to a tier 1 railroad retirement tax and the amount of the tier 1 tax withheld may be disclosed to the claimant's last railroad employer to enable that employer to compute its tax liability under the Railroad Retirement Tax Act.

v. The amount of sickness benefits paid and claimant identifying information, except for sickness benefits paid for an on-the-job injury, may be furnished to the Internal Revenue Service for tax administration purposes.

w. Entitlement data and benefit rates may be released to any court, state agency, or interested party, or to the representative of such court, state agency, or interested party in connection with contemplated or actual legal or administrative proceedings concerning domestic relations and support matters.

x. Identifying information and information about a claim for benefits filed may be disclosed to an employee's base-year railroad employer and the employee's most recent railroad employer, if different, in order to afford that employer or those employers the opportunity to submit information concerning the claim. In addition, after the claim has been paid, if the base-year railroad employer appeals the decision awarding benefits, all information regarding the claim may be disclosed to such base-year railroad employer that is necessary and appropriate for it to fully exercise its rights of appeal.

y. Non-medical information relating to the determination of sickness benefits may be disclosed to an insurance company administering a medical insurance program for railroad workers for purposes of determining entitlement to benefits under that program.

z. Scrambled Social Security Number and complete home address information of unemployment claimants may be furnished to the Bureau of Labor Statistics for use in its Local Area Unemployment Statistics (LAUS) program.

DISCLOSURE TO CONSUMER REPORTING AGENCIES:

None.

POLICIES AND PRACTICES FOR STORING, RETRIEVING, ACCESSING, RETAINING, AND DISPOSING OF RECORDS IN THE SYSTEM:

STORAGE:

Paper, microforms, magnetic tape, magnetic disk.

RETRIEVABILITY:

Social Security number (claim number) and name.

SAFEGUARDS:

Paper and Microforms: Maintained in areas not accessible to the public in metal filing cabinets. Access is limited to authorizied RRB employees. Offices are locked during non-business hours. Building has 24 hour on-site security officers, closed circuit television monitoring and intrusion detection systems.

Magnetic tape and disks: Computer and computer storage rooms are restricted to authorized personnel; on-line query safeguards include a lock/unlock password system, a terminal oriented transaction matrix, role based access controls and audit trail. For electronic records, system securities are established in accordance with National Institute of Standards and Technology (NIST) guidelines, including network monitoring, defenses in-depth, incident response and forensics. In addition to the on-line query safeguards, they include encryption of all data transmitted and exclusive use of leased telephone lines.

RETENTION AND DISPOSAL:

Paper and microform: Destroyed by shredding in accordance with NIST standards, no sooner than 7 years and no later than 10 years after the close of the benefit year.

Magnetic tape: Records are retained for 90 days and then written over following NIST guidelines. For disaster recovery purposes certain tapes are stored 12-18 months.

Magnetic disk: Continually updated and retained for at least 7 but not more than 10 years after the close of the benefit year. When magnetic disk or other electronic media is no longer required or servicable, it is sanitized in accordance with NIST guidelines.

SYSTEM MANAGER(S) AND ADDRESS:

Office of Programs—Director of Policy and Systems, Railroad Retirement Board, 844 Rush Street, Chicago, Illinois 60611-2092.

NOTIFICATION PROCEDURE:

Requests for information regarding an individual's record should be in writing, including the full name, social security number and railroad retirement claim number (if any) of the individual. Before information about any record will be released, the individual may be required to provide proof of identity, or authorization from the individual to permit release of information. Such requests should be sent to: Office of Programs—Director of Unemployment & Program Support Division, Railroad Retirement Board, 844 Rush Street, Chicago, Illinois 60611.

RECORD ACCESS PROCEDURE:

See Notification section above.

CONTESTING RECORD PROCEDURE:

See Notification section above.

RECORD SOURCE CATEGORIES:

Applicant, claimant or his or her representative, physicians, employers, labor organizations, federal, state, and local government agencies, all Railroad Retirement Board files, insurance companies, attorneys, Congressmen, liable parties (in personal injury cases), funeral homes and survivors (for payment of death benefits).

EXEMPTIONS CLAIMED FOR THE SYSTEM:

None.

* * * * *

RRB-22

SYSTEM NAME:

Railroad Retirement, Survivor, and Pensioner Benefit System.

SYSTEM LOCATION:

U.S. Railroad Retirement Board, 844 Rush Street, Chicago, Illinois 60611 Regional and District Offices: See Appendix I for addresses.

SECURITY CLASSIFICATION:

None.

CATEGORIES OF INDIVIDUALS COVERED BY THE SYSTEM: (Updated)

Applicants for retirement and survivor benefits, (spouses, divorced spouses, widows, surviving divorced spouses, children, students, parents, grandchildren), and individuals who filed for lump-sum death benefits and/or residual payments.

CATEGORIES OF RECORDS IN THE SYSTEM:

Information pertaining to the payment or denial of an individual's claim for benefits under the Railroad Retirement Act: Name, address, social security number, claim number, proofs of age, marriage, relationship, death, military service, creditable earnings and service months (including military service), entitlement to benefits under the Social Security Act, programs administered by the Veterans Administration, or other benefit systems, rates, effective dates, medical reports, correspondence and telephone inquiries to and about the beneficiary, suspension and termination dates, health insurance effective date, option, premium rate and deduction, direct deposit data, employer pension information, citizenship status and legal residency status (for annuitants living outside the United States), and tax withholding information (instructions of annuitants regarding number of exemptions claimed and additional amounts to be withheld, as well as actual amounts withheld for tax purposes).

AUTHORITY FOR MAINTENANCE OF THE SYSTEM:

Section 7(b)(6) of the Railroad Retirement Act of 1974 (U.S.C. 231f(b)(6)).

PURPOSE(S):

Records in this system of records are maintained to administer the benefit provisions of the Railroad Retirement Act, sections of the Internal Revenue Code related to the taxation of railroad retirement benefits, and Title XVIII of the Social Security Act as it pertains to Medicare coverage for railroad retirement beneficiaries.

ROUTINE USES OF RECORDS MAINTAINED IN THE SYSTEM, INCLUDING CATEGORIES OF USERS, AND THE PURPOSES OF SUCH USES:

a. Beneficiary identifying information may be disclosed to third party contacts to determine if incapacity of the beneficiary or potential beneficiary to understand or use benefits exists, and to determine the suitability of a proposed representative payee.

b. In the event the Board has determined to designate a person to be the representative payee of an incompetent beneficiary, disclosure of information concerning the benefit amount and other similar information may be made to the representative payee from the record of the individual.

c. Entitlement and benefit rates may be released to primary beneficiaries regarding secondary beneficiaries (or vice versa) when the addition of such beneficiary affects either the entitlement or benefit payment.

d. Identifying information such as full name, address, date of birth, social security number, employee identification number, and date last worked, may be released to any last employer to verify entitlement for benefits under the Railroad Retirement Act.

e. Beneficiary identifying information, address, check rates, number and date may be released to the Department of the Treasury to control for reclamation and return of outstanding benefit payments, to issue benefit payments, act on report of non-receipt, to insure delivery of payments to the correct address of the beneficiary or representative payee or to the proper financial organization, and to investigate alleged forgery, theft or unlawful negotiation of railroad retirement benefit checks or improper diversion of payments directed to a financial organization.

f. Beneficiary identifying information, address, check rate, date, number and other supporting evidence may be released to the U.S. Postal Service for investigation of alleged forgery or theft of railroad retirement or social security benefit checks.

g. Beneficiary identifying information, entitlement data, medical evidence and related evaluatory data and benefit rate may be released to the Social Security Administration and the Centers for Medicare & Medicaid Services to correlate actions with the administration of Title II and Title XVIII of the Social Security Act, as amended.

h. (Updated) Beneficiary identifying information, including social security account number, and supplemental annuity amounts may be released to the Internal Revenue Service.

i. Beneficiary identifying information, entitlement, benefit rates, medical evidence and related evaluatory data, and months paid may be furnished to the Veterans Administration for the purpose of assisting that agency in determining eligibility for benefits or verifying continued entitlement to and the correct amount of benefits payable under programs which it administers.

j. Beneficiary identifying information, entitlement data and benefit rates may be released to the Department of State and embassy and consular officials, the American Institute on Taiwan, and to the Veterans Administration Regional Office, Philippines, to aid in the development of applications, supporting evidence, and the continued eligibility of beneficiaries and potential beneficiaries living abroad.

k. Beneficiary identifying information, entitlement, benefit rates and months paid may be released to the Social Security Administration (Bureau of Supplemental Security Income) the Centers for Medicare & Medicaid Services, to federal, state and local welfare or public aid agencies to assist them in processing applications for benefits under their respective programs.

l. The last addresses and employer information may be released to the Department of Health and Human Services in conjunction with the Parent Locator Service.

m. Beneficiary identifying information, entitlement, rate and other pertinent data may be released to the Department of Labor in conjunction with payment of benefits under the Federal Coal Mine and Safety Act.

n. Medical evidence may be released to Board-appointed medical examiners to carry out their functions.

o. Information obtained in the administration of Title XVIII (Medicare) which may indicate unethical or unprofessional conduct of a physician or practitioner providing services to beneficiaries may be released to Professional Standards Review Organizations and State Licensing Boards.

p. Information necessary to study the relationship between benefits paid by the Railroad Retirement Board and civil service annuities may be released to the Office of Personnel Management.

q. Records may be disclosed to the General Accountability Office for auditing purposes and for collection of debts arising from overpayments under Title II and Title XVIII of the Social Security Act, as amended, or the Railroad Retirement Act.

r. Pursuant to a request from an employer covered by the Railroad Retirement Act or the Railroad Unemployment Insurance Act, or from an organization under contract to an employer or employers, information regarding the Board's payment of retirement benefits, the methods by which such benefits are calculated, entitlement data and present address may be released to the requesting employer or the organization under contract to an employer or employers for the purposes of determining entitlement to and rates of private supplemental pension, sickness or unemployment benefits and to calculate estimated benefits due.

s. If a request for information pertaining to an individual is made by an official of a labor organization of which the individual is a member and the request is made on behalf of the individual, information from the record of the individual concerning his benefit or anticipated benefit and concerning the method of calculating that benefit may be disclosed to the labor organization official.

t. Records may be disclosed in a court proceeding relating to any claims for benefits by the beneficiary under the Railroad Retirement Act, and may be disclosed during the course of an administrative appeal to individuals who need the records to prosecute or decide the appeal or to individuals who are requested to provide information relative to an issue involved in the appeal.

u. The amount of a residual lump-sum payment and the identity of the payee may be released to the Internal Revenue Service for tax audit purposes.

v. The amount of any death benefit or annuities accrued but unpaid at death and the identity of such payee may be released to the appropriate state taxing authorities for tax assessment and auditing purposes.

w. Beneficiary identifying information, including but not limited to name, address, social security account number, payroll number and occupation, the fact of entitlement and benefit rate may be released to the Pension Benefit Guaranty Corporation to enable that agency to determine and pay supplemental pensions to qualified railroad retirees.

x. Medical records may be disclosed to vocational consultants in administrative proceedings.

y. Date employee filed application for annuity to the last employer under the Railroad Retirement Act for use in determining entitlement to continued major medical benefits under insurance programs negotiated with labor organizations.

z. Information regarding the determination and recovery of an overpayment made to an individual may be released to any other individual from whom any portion of the overpayment is being recovered.

aa. The name and address of an annuitant may be released to a Member of Congress when the Member requests it in order that he or she may communicate with the annuitant about legislation which affects the railroad retirement system.

bb. Certain identifying information about annuitants, such as name, social security number, RRB claim number, and date of birth, as well as address, year and month last worked for a railroad, last railroad occupation, application filing date, annuity beginning date, identity of last railroad employer, total months of railroad service, sex, disability onset date, disability freeze onset date, and cause and effective date of annuity termination may be furnished to insurance companies for administering group life and medical insurance plans negotiated between certain participating railroad employers and railway labor organizations.

cc. For payments made after December 31, 1983, beneficiary identifying information, address, amounts of benefits paid and repaid, beneficiary withholding instructions, and amounts withheld by the RRB for tax purposes may be furnished to the Internal Revenue Service for tax administration purposes.

dd. Last address and beneficiary identifying information may be furnished to railroad employers for the purpose of mailing railroad passes to retired employees and their families.

ee. Entitlement data and benefits rates may be released to any court, state agency, or interested party, or to the representative of such court, state agency, or interested party, in connection with contemplated or actual legal or administrative proceedings concerning domestic relations and support matters.

ff. Identifying information about annuitants and applicants may be furnished to agencies and/or companies from which such annuitants and applicants are receiving or may receive worker's compensation, public pension, or public disability benefits in order to verify the amount by which Railroad Retirement Act benefits must be reduced, where applicable.

gg. Disability annuitant identifying information may be furnished to state employment agencies for the purpose of determining whether such annuitants were employed during times they receive disability benefits.

hh. Identifying information about Medicare-entitled beneficiaries who may be working may be disclosed to the Centers for Medicare & Medicaid Services for the purposes of determining whether Medicare should be the secondary payer of benefits for such individuals.

ii. Disclosure of information in claim folders is authorized for bonafide researchers doing epidemiological/mortality studies approved by the RRB who agree to record only information pertaining to deceased beneficiaries.

jj. Identifying information for beneficiaries, such as name, SSN, and date of birth, may be furnished to the Social Security Administration and to any State for the purpose of enabling the Social Security Administration or State through a computer or manual matching program to assist the RRB in identifying female beneficiaries who remarried but who may not have notified the RRB of their remarriage.

kk. An employee's date last worked, annuity filing date, annuity beginning date, and the month and year of death may be furnished to AMTRAK when such information is needed by AMTRAK to make a determination whether to award a travel pass to either the employee or the employee's widow.

ll. The employee's social security number may be disclosed to an individual eligible for railroad retirement benefits on the employee's earnings record when the employee's social security number would be contained in the railroad retirement claim number.

DISCLOSURE TO CONSUMER REPORTING AGENCIES:

None.

POLICIES AND PRACTICES FOR STORING, RETRIEVING, ACCESSING, RETAINING, AND DISPOSING OF RECORDS IN THE SYSTEM:

STORAGE:

Paper, microforms, magnetic tape and magnetic disk.

RETRIEVABILITY:

Claim number, social security number and full name.

SAFEGUARDS:

Paper and Microforms: Maintained in areas not accessible to the public in metal filing cabinets. Access is limited to authorizied RRB employees. Offices are locked during non-business hours. Building has 24 hour on-site security officers, closed circuit television monitoring and intrusion detection systems.

Magnetic tape and disks: Computer and computer storage rooms are restricted to authorized personnel; on-line query safeguards include a lock/unlock password system, a terminal oriented transaction matrix, role based access controls and audit trail. For electronic records, system securities are established in accordance with National Institute of Standards and Technology (NIST) guidelines, including network monitoring, defenses in-depth, incident response and forensics. In addition to the on-line query safeguards, they include encryption of all data transmitted and exclusive use of leased telephone lines.

RETENTION AND DISPOSAL:

Paper: Identify and transfer inactive folders to FRC periodically, transfer to National Archives 7 years after the close of the fiscal year folders were determined to be inactive.

Electronically imaged documents: Destroy 90 days after the date scanned into the system or after completion of the quality assurance process, whichever is later.

Magnetic tape: Magnetic tape records are used to daily update the disk file, are retained for 90 days and then written over. For disaster recovery purposes certain tapes are stored 12-18 months.

Magnetic disk: Continually updated and permanently retained.

Electronically imaged documents: Destroy/delete individual claimant data 7 years after the close of the fiscal year determined to be inactive.

SYSTEM MANAGER(S) AND ADDRESS:

Office of Programs—Director of Policy and Systems, Railroad Retirement Board, 844 Rush Street, Chicago, Illinois 60611-2092.

NOTIFICATION PROCEDURE:

Requests for information regarding an individual's records should be in writing, including the full name, social security number and railroad retirement claim number (if any) of the individual. Before information about any records will be released, the individual may be required to provide proof of identity, or authorization from the individual to permit release of information. Such requests should be sent to: Director of Unemployment & Programs Support Division, Railroad Retirement Board, 844 Rush Street, Chicago, Illinois 60611-2092.

RECORD ACCESS PROCEDURE:

See Notification section above.

CONTESTING RECORD PROCEDURE:

See Notification section above.

RECORD SOURCE CATEGORIES:

Individual applicants or their representatives, railroad employers, other employers, physicians, labor organizations, federal, state and local government agencies, attorneys, funeral homes, congressmen, schools, foreign government.

EXEMPTIONS CLAIMED FOR THE SYSTEM:

None.

* * * * *

RRB-23-25 [Reserved]

* * * * *

RRB-26

SYSTEM NAME:

Payment, Rate and Entitlement History File.

SYSTEM LOCATION:

U.S. Railroad Retirement Board, 844 Rush Street, Chicago, Illinois 60611.

SECURITY CLASSIFICATION:

None.

CATEGORIES OF INDIVIDUALS COVERED BY THE SYSTEM:

Individuals who have received or are receiving benefits under the Railroad Retirement Act or the Social Security Act, including retired and disabled railroad employees, their qualified spouses, dependents, and survivors, and recipients of other, non-recurring benefits.

CATEGORIES OF RECORDS IN THE SYSTEM:

Data supporting the benefits and historical data recording the benefits paid to the above categories of individuals under the Railroad Retirement and Social Security Acts. Includes name, address, social security number, claim number, date of birth, dates of military service, creditable service months, amounts of benefits received under the Social Security Act, components of and final rates payable under the Railroad Retirement Act, health insurance premium deduction, direct deposit data, employer pension information and tax withholding information (actual amounts withheld for tax purposes).

AUTHORITY FOR MAINTENANCE OF THE SYSTEM:

Section 7(b)(6) of the Railroad Retirement Act of 1974 (45 U.S.C. 231f(b)(6)).

PURPOSE(S):

The purpose of this system is to record in one file all data concerning payment, rate, and entitlement history for recipients of Railroad Retirement benefits.

ROUTINE USES OF RECORDS MAINTAINED IN THE SYSTEM, INCLUDING CATEGORIES OF USERS, AND THE PURPOSES OF SUCH USES:

a. Records may be released to the Internal Revenue Service for the purpose of their checking amounts shown on individual tax returns as pensions and annuities received under the Railroad Retirement Act.

b. Benefit data regarding persons who, it is determined, are both RRB and VA beneficiaries may be furnished to the Veterans Administration for the purpose of assisting the VA in the administration of its income dependent benefit programs.

c. Disability annuitant identifying information may be furnished to state employment agencies for the purpose of determining whether such annuitants were employed during times they receive disability benefits.

d. Identifying information about Medicare-entitled beneficiaries who may be working may be disclosed to the Centers for Medicare & Medicaid Services for the purposes of determining whether Medicare should be the secondary payer of benefits for such individuals.

e. Benefit information may be furnished to state agencies for the purposes of determining entitlement or continued entitlement to state income-dependent benefits and, if entitled, to adjusting such benefits to the amount to which the individual is entitled under state law, provided the state agency furnishes identifying information for the individuals for whom it wants the RRB benefit information.

DISCLOSURE TO CONSUMER REPORTING AGENCIES:

None.

POLICIES AND PRACTICES FOR STORING, RETRIEVING, ACCESSING, RETAINING, AND DISPOSING OF RECORDS IN THE SYSTEM:

STORAGE:

Magnetic tape and magnetic disk.

RETRIEVABILITY:

By claim number or beneficiary's Social Security number.

SAFEGUARDS:

Computer and computer storage rooms are restricted to authorized personnel; on-line query safeguards include a lock/unlock password system, a terminal oriented transaction matrix, role based access controls and audit trail. For electronic records, system securities are established in accordance with National Institute of Standards and Technology (NIST) guidelines, including network monitoring, defenses in-depth, incident response and forensics. In addition to the on-line query safeguards, they include encryption of all data transmitted and exclusive use of leased telephone lines.

RETENTION AND DISPOSAL:

Magnetic tape: Magnetic tape records are retained for six months. Activity record tapes are maintained for 15 months. For disaster recovery purposes certain tapes are stored for three years. When no longer needed, they are over-written following NIST guidelines.

Magnetic disk: Non-Generational (unique) datasets are updated and permanently retained. Generational datasets are maintained in a rolling archive as they are created with the oldest dataset being replaced by the newest one. Normal lifespan for a generational dataset is 6-8 months, at which point it is over-written. When magnetic disk or other electronic media is no longer required or servicable, it is sanitized in accordance with NIST guidelines.

SYSTEM MANAGER(S) AND ADDRESS: (Updated)

Office of Programs—Director of Policy and Systems, U.S. Railroad Retirement Board, 844 North Rush Street, Chicago, Illinois 60611-2092.

NOTIFICATION PROCEDURE:

Requests for information regarding an individual's record should be in writing addressed to the System Manager identified above, including the full name and social security number and claim number of the individual. Before information about any record will be released, the System Manager may require the individual to provide proof of identity or require the requester to furnish an authorization from the individual to permit release of information.

RECORD ACCESS PROCEDURE:

See Notification section above.

CONTESTING RECORD PROCEDURE:

See Notification section above.

RECORD SOURCE CATEGORIES:

Transmissions from the following computerized systems: Railroad Retirement Act benefit payment; Social Security benefit payment; disability rating decisions; and primary insurance amount calculations.

EXEMPTIONS CLAIMED FOR THE SYSTEM:

None.

* * * * *

RRB-27

SYSTEM NAME:

Railroad Retirement Board—Social Security Administration Financial Interchange System.

SYSTEM LOCATION:

U.S. Railroad Retirement Board, 844 Rush Street, Chicago, Illinois 60611.

SECURITY CLASSIFICATION:

None.

CATEGORIES OF INDIVIDUALS COVERED BY THE SYSTEM:

One-percent sample of former railroad employees and members of their families who would have been eligible for social security benefits if railroad employment had been covered by the social security system.

CATEGORIES OF RECORDS IN THE SYSTEM:

Claim number, social security number, date of birth, and administrative cost and payment data on imputed and actual social security benefits.

AUTHORITY FOR MAINTENANCE OF THE SYSTEM:

Section 7(c)(2) of the Railroad Retirement Act of 1974 (45 U.S.C. 231f(c)(2)).

PURPOSE(S):

The purpose of this system is to calculate benefit amounts required to determine the financial interchange transfer amounts each year.

ROUTINE USES OF RECORDS MAINTAINED IN THE SYSTEM, INCLUDING CATEGORIES OF USERS, AND THE PURPOSES OF SUCH USES:

a. Findings, including individual records, may be released to the Social Security Administration, determining amounts which, if added to or subtracted from the OASDI Trust Funds, would place the Social Security Administration in the position it would have been if employment covered by the Railroad Retirement Act had been covered by the Social Security and Federal Insurance Contributions Acts.

b. Information may be released to the Government Accountability Office for auditing purposes.

DISCLOSURE TO CONSUMER REPORTING AGENCIES:

None.

POLICIES AND PRACTICES FOR STORING, RETRIEVING, ACCESSING, RETAINING, AND DISPOSING OF RECORDS IN THE SYSTEM:

STORAGE:

Paper, Magnetic tape and Magnetic disk.

RETRIEVABILITY:

Claim and social security account numbers.

SAFEGUARDS:

Paper: Maintained in areas not accessible to the public in metal filing cabinents. Access is limited to authorizied RRB employees. Offices are locked during non-business hours. Building has 24 hour on-site security officers, closed circuit television monitoring and intrusion detection systems.

Magnetic tape and magnetic disk: Computer and computer storage rooms are restricted to authorized personnel; on-line query safeguards include a lock/unlock password system, a terminal oriented transaction matrix, role based access controls and audit trail. For electronic records, system securities are established in accordance with National Institute of Standards and Technology (NIST) guidelines, including network monitoring, defenses in-depth, incident response and forensics. In addition to the on-line query safeguards, they include encryption of all data transmitted and exclusive use of leased telephone lines.

RETENTION AND DISPOSAL:

Retained indefinitely, except that periodically, inactive materials are sent to the Federal Records Center to be retained for ten years, then destroyed by the General Services Administration in accordance with NIST guidance.

SYSTEM MANAGER(S) AND ADDRESS:

Chief, Financial Interchange Division, Bureau of the Actuary, U.S. Railroad Retirement Board, 844 North Rush Street, Chicago, Illinois 60611-2092.

NOTIFICATION PROCEDURE:

Requests for information regarding an individual's record should be in writing addressed to the System Manager identified above, including the full name and social security account number and claim number of the individual. Before information about any record will be released, the System Manager may require the individual to provide proof of identity or require the requester to furnish an authorization from the individual to permit release of information.

RECORD ACCESS PROCEDURE:

See Notification section above.

CONTESTING RECORD PROCEDURE:

See Notification section above.

RECORD SOURCE CATEGORIES:

The Social Security Administration and other Railroad Retirement Board files.

EXEMPTIONS CLAIMED FOR THE SYSTEM:

None.

* * * * *

RRB-28 [Reserved]

* * * * *

RRB-29

SYSTEM NAME:

Railroad Employees' Annual Gross Earnings Master File.

SYSTEM LOCATION:

U.S. Railroad Retirement Board, 844 Rush Street, Chicago, Illinois 60611.

SECURITY CLASSIFICATION:

None.

CATEGORIES OF INDIVIDUALS COVERED BY THE SYSTEM:

Railroad workers whose social security account number ends in “30.”

CATEGORIES OF RECORDS IN THE SYSTEM:

Gross earnings by individual by month, quarter or year.

AUTHORITY FOR MAINTENANCE OF THE SYSTEM:

Section 7(c)(2) of the Railroad Retirement Act of 1974 (45 U.S.C. 231f(c)(2)).

PURPOSE(S):

The purpose of this system is to maintain gross earnings reports for Financial Interchange sample employees for use in the calculation of payroll tax amounts used in the financial interchange determinations.

ROUTINE USES OF RECORDS MAINTAINED IN THE SYSTEM, INCLUDING CATEGORIES OF USERS, AND THE PURPOSES OF SUCH USES:

a. Records may be released to the Internal Revenue Service for the sole purpose of computing the additional Medicare tax shortfall amount. Records released will include the Social Security Number (SSN), employer name, Employer Identification Number (EIN) and gross earnings for a 1-percent sample of active railroad employees in the reference year (per 20 CFR 209.13). Records provided shall not be used for IRS audits or any other unauthorized purposes.

DISCLOSURE TO CONSUMER REPORTING AGENCIES:

None.

POLICIES AND PRACTICES FOR STORING, RETRIEVING, ACCESSING, RETAINING, AND DISPOSING OF RECORDS IN THE SYSTEM:

STORAGE:

Paper, Magnetic tape and Magnetic disk.

RETRIEVABILITY:

Social security account number.

SAFEGUARDS:

Paper: Maintained in areas not accessible to the public in metal filing cabinents. Access is limited to authorizied RRB employees. Offices are locked during non-business hours. Building has 24 hour on-site security officers, closed circuit television monitoring and intrusion detection systems.

Magnetic tape and magnetic disk: Computer and computer storage rooms are restricted to authorized personnel; on-line query safeguards include a lock/unlock password system, a terminal oriented transaction matrix, role based access controls and audit trail. For electronic records, system securities are established in accordance with National Institute of Standards and Technology (NIST) guidelines, including network monitoring, defenses in-depth, incident response and forensics. In addition to the on-line query safeguards, they include encryption of all data transmitted and exclusive use of leased telephone lines.

RETENTION AND DISPOSAL:

Paper: Original reports are retained for 2½ years and work files are retained for three years. Financial interchange tabulations are retained indefinitely, and all other tabulations are retained for two years. After the appropriate retention periods, items are destroyed in accordance with NIST guidelines.

Magnetic tape: Original reports on magnetic tape are retained for 2½ years and work files are retained for one year. The final summarized file is retained for two years. After the appropriate retention periods, original reports are returned to employers and all other magnetic tapes are written over following NIST guidelines.

Magnetic disk and electronic media: Original reports are retained for 2½ years, and work files are retained for three years. The final summarized file is retained for five years. Financial interchange tabulations are retained indefinitely. When magnetic disk or other electronic media is no longer required or serviceable, it is sanitized in accordance with NIST guidelines.

SYSTEM MANAGER(S) AND ADDRESS:

Chief of Benefit and Employment Analysis, Bureau of the Actuary, U.S. Railroad Retirement Board, 844 N. Rush Street, Chicago, Illinois 60611-2092.

NOTIFICATION PROCEDURE:

Requests for information regarding an individual's record should be in writing addressed to the System Manager identified above, including the full name and social security account number and claim number of the individual. Before information about any record will be released, the System Manager may require the individual to provide proof of identity or require the requester to furnish an authorization from the individual to permit release of information.

RECORD ACCESS PROCEDURE:

See Notification section above.

CONTESTING RECORD PROCEDURE:

See Notification section above.

RECORD SOURCE CATEGORIES:

Railroad employers.

EXEMPTIONS CLAIMED FOR THE SYSTEM:

None.

* * * * *

RRB-30-32 [Reserved]

* * * * *

RRB-33

SYSTEM NAME:

Federal Employee Incentive Awards System.

SYSTEM LOCATION:

U.S. Railroad Retirement Board, 844 Rush Street, Chicago, Illinois 60611.

SECURITY CLASSIFICATION:

None.

CATEGORIES OF INDIVIDUALS COVERED BY THE SYSTEM:

Railroad Retirement Board employees who have submitted suggestions or have been nominated for awards.

CATEGORIES OF RECORDS IN THE SYSTEM:

Employee suggestions, special achievement awards, quality increase awards, public service awards, government-sponsored awards, performance awards, and time off awards.

AUTHORITY FOR MAINTENANCE OF THE SYSTEM:

Chapter 45, Title 5, U.S. Code.

PURPOSE(S):

Past suggestion and award nominations and awards presented are maintained to provide historical and statistical records.

ROUTINE USES OF RECORDS MAINTAINED IN THE SYSTEM, INCLUDING CATEGORIES OF USERS, AND THE PURPOSES OF SUCH USES:

a. Information may be released to the public media for public relations purposes.

b. Records may be disclosed to the General Accountability Office for auditing purposes.

DISCLOSURE TO CONSUMER REPORTING AGENCIES:

None.

POLICIES AND PRACTICES FOR STORING, RETRIEVING, ACCESSING, RETAINING, AND DISPOSING OF RECORDS IN THE SYSTEM:

STORAGE:

Paper.

RETRIEVABILITY:

System indexed by number assigned when suggestion or nomination is received. Suggestions are cross-referenced by name of suggester and subject of suggestion.

SAFEGUARDS:

Maintained in areas not accessible to the public in metal filing cabinents. Access is limited to authorizied RRB employees. Offices are locked during non-business hours. Building has 24 hour on-site security officers, closed circuit television monitoring and intrusion detection systems.

RETENTION AND DISPOSAL:

Denied suggestions are purged and destroyed five years after denial date in accordance with NIST guidelines. Adopted suggestions are retained permanently as are all special achievement awards, quality increase and public service awards, RRB Award for Excellence, and government-sponsored awards.

SYSTEM MANAGER(S) AND ADDRESS:

Director of Human Resources, U.S. Railroad Retirement Board, 844 Rush Street, Chicago, Illinois 60611.

NOTIFICATION PROCEDURE:

Requests for information regarding an individual's record should be in writing addressed to the System Manager identified above, including the full name and social security number of the individual. Before information about any record will be released, the System Manager may require the individual to provide proof of identity or require the requester to furnish an authorization from the individual to permit release of information.

RECORD ACCESS PROCEDURE:

See Notification section above.

CONTESTING RECORD PROCEDURE:

See Notification section above.

RECORD SOURCE CATEGORIES:

Suggestion or award submitted by suggester or nominator. Suggestions submitted by employees; recommendations for award submitted by supervisory personnel.

EXEMPTIONS CLAIMED FOR THE SYSTEM:

None.

* * * * *

RRB-34

SYSTEM NAME:

Employee Personnel Management Files.

SYSTEM LOCATION:

U.S. Railroad Retirement Board, 844 Rush Street, Chicago, Illinois 60611.

SECURITY CLASSIFICATION:

None.

CATEGORIES OF INDIVIDUALS COVERED BY THE SYSTEM:

Current employees of the U.S. Railroad Retirement Board.

CATEGORIES OF RECORDS IN THE SYSTEM:

Name, address and phone number of the person to notify in case of emergency and personal physician; copies of SF-52, Request for Personnel Action, SF-50, Personnel Action, service computation date form, performance ratings, other awards and nominations for recognition, supervisory informal and formal written notes, memorandums, etc., relative to admonishment, caution, warnings, reprimand or similar notices, within-grade increase materials, SF-171, Employment Application, official position descriptions, task lists and performance plans, information concerning training received and seminars attended, and miscellaneous correspondence.

AUTHORITY FOR MAINTENANCE OF THE SYSTEM:

Section 7(b)(9) of the Railroad Retirement Act of 1974 (45 U.S.C. 231f(b)(9)) and the Federal Personnel Manual 293-31—Subchapter S-8.

PURPOSE(S):

The system is maintained to provide information to managers and supervisors to assist in their work, and meet OPM regulations.

ROUTINE USES OF RECORDS MAINTAINED IN THE SYSTEM, INCLUDING CATEGORIES OF USERS, AND THE PURPOSES OF SUCH USES:

a. Records may be disclosed in a court proceeding and may be disclosed during the course of an administrative appeal to individuals who need the records to prosecute or decide the appeal or to individuals who are requested to provide information relative to an issue involved in the appeal.

b. A record from this system of records may be disclosed to a federal agency, in response to its request, in connection with the hiring or retention of an employee, the issuance of a security clearance, the reporting of an investigation of an employee, the letter of a contract, or the issuance of a license, grant, or other benefit by the requesting agency, to the extent that the information is relevant and necessary to the requesting agency's decision on the matter.

c. Information in this system of records may be released to the attorney representing such individual, upon receipt of a written letter or declaration stating the fact of representation, subject to the same procedures and regulatory prohibitions as the subject individual.

DISCLOSURE TO CONSUMER REPORTING AGENCIES:

None.

POLICIES AND PRACTICES FOR STORING, RETRIEVING, ACCESSING, RETAINING, AND DISPOSING OF RECORDS IN THE SYSTEM:

STORAGE:

Paper and General Services Administration (GSA) Comprehensive Human Resources Integrated System (CHRIS) information system.

RETRIEVABILITY:

Name of employee.

SAFEGUARDS:

Paper: Maintained in areas not accessible to the public in metal filing cabinents. Access is limited to authorizied RRB employees. Offices are locked during non-business hours. Building has 24 hour on-site security officers, closed circuit television monitoring and intrusion detection systems.

GSA CHRIS: The General Services Administration (GSA) is responsible for and provides safeguards in accordance with Federal guidelines for this information system.

RETENTION AND DISPOSAL:

The paper folder is maintained for the period of the employee's service in the agency and is then transferred to the National Personnel Records Center for storage or, to the next employing Federal agency. Other records are either retained at the agency for various lengths of time in accordance with the National Archives and Records Administration records schedules or destroyed, in accordance with NIST guidelines, when they have served their purpose or when the employee leaves the agency.

SYSTEM MANAGER(S) AND ADDRESS:

Director of Human Resources, U.S. Railroad Retirement Board, 844 Rush Street, Chicago, Illinois 60611.

NOTIFICATION PROCEDURE:

Requests for information regarding an individual's record should be addressed to the System Manager identified above, including the full name and social security number of the individual. Before information about any record will be released, the System Manager may require the individual to provide proof of identity or require the requester to furnish an authorization from the individual to permit release of information.

RECORD ACCESS PROCEDURE:

See Notification section above.

CONTESTING RECORD PROCEDURE:

See Notification section above.

RECORD SOURCE CATEGORIES:

Employee, agency officials and management personnel.

EXEMPTIONS CLAIMED FOR THE SYSTEM:

None.

* * * * *

RRB-35 [Reserved]

* * * * *

RRB-36

SYSTEM NAME:

Complaint, Grievance, Disciplinary and Adverse Action Files.

SYSTEM LOCATION:

U.S. Railroad Retirement Board, 844 Rush Street, Chicago, Illinois 60611.

SECURITY CLASSIFICATION:

None.

CATEGORIES OF INDIVIDUALS COVERED BY THE SYSTEM:

Railroad Retirement Board employees who are the subjects of disciplinary or adverse actions or who have filed a complaint or grievance.

CATEGORIES OF RECORDS IN THE SYSTEM:

Information relating to proposals and decisions in cases of discipline and adverse actions; including supporting documents; information relating to grievances filed under the agency and negotiated grievance procedures, including the grievance, final decision and any evidence submitted by the employee and/or the agency in support of or contesting the grievance.

AUTHORITY FOR MAINTENANCE OF THE SYSTEM:

Title 5 U.S.C. sections 7503(c), 7513(e), 7543(e).

PURPOSE(S):

The purpose of this system of records is to maintain information related to grievances, disciplinary actions, and adverse actions in order to furnish information to arbitrators, EEO investigators, the Merit Systems protection Board, the Federal Labor Relations Authority, and the Courts, as necessary. The information is also used for statistical purposes, as needed.

ROUTINE USES OF RECORDS MAINTAINED IN THE SYSTEM, INCLUDING CATEGORIES OF USERS, AND THE PURPOSES OF SUCH USES:

a. Information in this system of records may be released to the attorney representing such individual, upon receipt of a written letter or declaration stating the fact of representation, subject to the same procedures and regulatory prohibitions as the subject individual.

b. Records may be disclosed to the Merit Systems Protection Board or an arbitrator to adjudicate an appeal, complaint, or grievance.

DISCLOSURE TO CONSUMER REPORTING AGENCIES:

None.

POLICIES AND PRACTICES FOR STORING, RETRIEVING, ACCESSING, RETAINING, AND DISPOSING OF RECORDS IN THE SYSTEM:

STORAGE:

Paper.

RETRIEVABILITY:

Name of employee.

SAFEGUARDS:

Maintained in areas not accessible to the public in metal filing cabinets. Access is limited to authorizied RRB employees. Offices are locked during non-business hours. Building has 24 hour on-site security officers, closed circuit television monitoring and intrusion detection systems.

RETENTION AND DISPOSAL:

Maintained for four years, then destroyed in accordance with NIST guidance.

SYSTEM MANAGER(S) AND ADDRESS:

Director of Human Resources, U.S. Railroad Retirement Board, 844 Rush Street, Chicago, Illinois 60611.

NOTIFICATION PROCEDURE:

Requests for information regarding an individual's record should be addressed to the System Manager identified above and should include the name of the individual involved. Before information about any record will be released, the System Manager may require the individual to provide proof of identity or require the requester to furnish an authorization from the individual to permit release of information.

RECORD ACCESS PROCEDURE:

See Notification section above.

CONTESTING RECORD PROCEDURE:

See Notification section above.

RECORD SOURCE CATEGORIES:

The Railroad Retirement Board employee, the employee's supervisor, bureau or network director, the executive director, or the employee's representative.

EXEMPTIONS CLAIMED FOR THE SYSTEM:

None.

* * * * *

RRB-37-41 [Reserved]

* * * * *

RRB-42

SYSTEM NAME:

Overpayment Accounts.

SYSTEM LOCATION:

U.S. Railroad Retirement Board, 844 Rush Street, Chicago, Illinois 60611.

SECURITY CLASSIFICATION:

None.

CATEGORIES OF INDIVIDUALS COVERED BY THE SYSTEM:

Individuals or businesses who were overpaid in the salaries or benefits they received from the Railroad Retirement Board. Benefits overpaid are further delineated in the following two categories.

—Individuals or businesses overpaid the following types of annuities or benefits payable under the Railroad Retirement Act: Railroad retirement, disability, supplemental, and survivor.

—Individuals overpaid unemployment or sickness insurance benefits payable under the Railroad Unemployment Insurance Act.

CATEGORIES OF RECORDS IN THE SYSTEM:

Name, address, Social Security number, Railroad Retirement claim number, whether salary or benefit and if benefit type of benefit previously paid, amount of overpayment, debt identification number, cause of overpayment, source of overpayment, original debt amount, current balance of debt, installment repayment history, recurring accounts receivable administrative offset history, waiver, reconsideration and debt appeal status, general billing, dunning, referral, collection, and payment history, amount of interest and penalties assessed and collected, name of Federal agency to which account is referred for collection, date of such referral and amount collected.

AUTHORITY FOR MAINTENANCE OF THE SYSTEM:

Sec. 7(b)(6) of the Railroad Retirement Act of 1974 (45 U.S.C. 231f(b)(6)); sec. 12(l) of the Railroad Unemployment Insurance Act (45 U.S.C. 362(l)); Public Law 97-92, Joint Resolution; Public Law 97-365 (Debt Collection Act of 1982); Federal Claims Collection Act (31 U.S.C. 3701 et. seq.); Public Law 104-134 (Debt Collection Improvement Act of 1996), 5 U.S.C. section 5514 and 20 CFR part 361.

PURPOSE(S):

The records in this system are created, monitored and maintained to enable the Railroad Retirement Board to fulfill regulatory and statutory fiduciary responsibilities to its trust funds, the individuals to whom it pays salaries or benefits and the Federal Government as directed under the Railroad Retirement Act, Railroad Unemployment Insurance Act, Debt Collection Act of 1982, and the Debt Collection Improvement Act of 1996. These responsibilities include: Accurate and timely determination of debt; sending timely, accurate notice of the debt with correct repayment and rights options; taking correct and timely action when rights/appeals have been requested; assessing appropriate charges; using all appropriate collection tools, releasing required, accurate reminder notices; and correctly and timely entering all recovery, write-off and waiver offsets to debts.

ROUTINE USES OF RECORDS MAINTAINED IN THE SYSTEM, INCLUDING CATEGORIES OF USERS, AND THE PURPOSES OF SUCH USES:

a. Benefit overpayment amounts, history of collection actions and efforts, and personally identifiable information (name, address, social security number, railroad retirement claim number, etc.) may be disclosed to agencies of the Federal government for the purpose of recovering delinquent debts.

b. Federal salary overpayment amounts, history of collection actions and efforts, and personally identifiable information (name, address, social security number, etc.) may be disclosed to agencies of the Federal government for the purpose of recovering delinquent debts.

c. Personally identifiable information pertaining to delinquent benefit and Federal salary overpayments may be disclosed to the Department of the Treasury, Financial Management Service (FMS), for the purpose of collection through cross-servicing and offset of Federal payments. FMS may disclose this personally identifiable information to other agencies to conduct computer matching programs to identify and locate delinquent debtors who are receiving Federal salaries or benefit payments. FMS may refer these delinquent accounts and disclose pertinent information to other Federal agencies and private collection agencies for the purpose of collection.

d. Personally identifiable information may be released to any Federal agency for the purpose of enabling such agency to collect debts on the RRB's behalf.

e. If a request for information pertaining to an individual is made by an official of a labor organization of which the individual is a member and the request is authorized by the individual, information from the record of the individual concerning his overpayment may be disclosed to the labor organization official.

f. Records may be disclosed to the Government Accountability Office for auditing purposes.

DISCLOSURE TO CONSUMER REPORTING AGENCIES:

None.

POLICIES AND PRACTICES FOR STORING, RETRIEVING, ACCESSING, RETAINING, AND DISPOSING OF RECORDS IN THE SYSTEM:

STORAGE:

Paper, Magnetic tape, and Magnetic disk.

RETRIEVABILITY:

Salary overpayments are retrievable by Social Security number and name. Benefit overpayments are retrievable by Social Security number, Railroad Retirement claim number, and name.

SAFEGUARDS:

Salary overpayment records are maintained at the General Services Administration under safeguards equal to those of the Railroad Retirement Board (see GSA Systems of Records Notice: GSA-PPFM-9).

Benefit overpayment records:

Paper: Maintained in areas not accessible to the public in metal filing cabinents. Access is limited to authorizied RRB employees. Offices are locked during non-business hours. Building has 24 hour on-site security officers, closed circuit television monitoring and intrusion detection systems.

Magnetic tape and magnetic disk: Computer and computer storage rooms are restricted to authorized personnel; on-line query safeguards include a lock/unlock password system, a terminal oriented transaction matrix, role based access controls and audit trail. For electronic records, system securities are established in accordance with National Institute of Standards and Technology (NIST) guidelines, including network monitoring, defenses in-depth, incident response and forensics. In addition to the on-line query safeguards, they include encryption of all data transmitted and exclusive use of leased telephone lines.

RETENTION AND DISPOSAL:

Salary overpayments are maintained at the General Services Administration and follow that agency's retention and disposal guidelines.

Benefit overpayments.

Paper documents, with benefit overpayment data, are shredded three years after receipt. These records are identified and destroyed annually.

Magnetic tape and disk. Maintained in an on-line database. Overpayments are removed five years after balances reach $0.00. These records are identified and removed annually. Overpayments declared uncollectible and written off are removed ten years after being so declared. Removed records are written to tape and disk. The information written is general case history, which includes cause and type of overpayment, regular recovery actions, account adjustments resulting from posting interest, charges and cash receipts. Other activity, such as reconsideration, waiver and appeal actions, and delinquent recovery actions are also included. The tapes are retained for five years and, then, made available for overwrite. There is no retention schedule for records written to disk. When magnetic disk or other electronic media is no longer required or servicable, it is sanitized in accordance with NIST guidelines.

SYSTEM MANAGER(S) AND ADDRESS:

Salary overpayments: Director, General Services Administration National Payroll Center, Attention: 6BCY, 1500 Bannister Road, Kansas City, Missouri 64131-3088.

Benefit overpayments: Chief Financial Officer, U.S. Railroad Retirement Board, 844 Rush Street, Chicago, Illinois 60611.

NOTIFICATION PROCEDURE:

Requests for information regarding an individual's salary overpayment record should be in writing addressed to the Director, General Services Administration National Payroll Center at the address above.

Requests for information regarding an individual's or business' benefit overpayment record should be in writing addressed to the System Manager identified above, including the full name, claim number, and social security number of the individual. Before information about any record will be released, the System Manager may require the individual to provide proof of identity or require the requester to furnish an authorization from the individual to permit release of information.

RECORD ACCESS PROCEDURE:

See Notification section above.

CONTESTING RECORD PROCEDURE:

See Notification section above.

RECORD SOURCE CATEGORIES:

Salary overpayments: General Services Administration maintains RRB salary records, including records of amounts overpaid to Railroad Retirement Board employees. The RRB also maintains salary overpayment records in folders and other RRB systems of records.

Benefit overpayments: Railroad Retirement Board beneficiaries' overpayment records are contained in claim folders, the RRB's accounts receivable system, and other RRB systems of records.

EXEMPTIONS CLAIMED FOR THE SYSTEM:

None.

* * * * *

RRB-43

SYSTEM NAME:

Investigation Files.

SYSTEM LOCATION:

Office of Inspector General, U.S. Railroad Retirement Board, 844 N. Rush Street, Chicago, Illinois 60611.

SECURITY CLASSIFICATION:

Controlled Unclassified Information (CUI).

CATEGORIES OF INDIVIDUALS COVERED BY THE SYSTEM:

Any of the following categories of individuals on whom a complaint is made alleging a violation of law, regulation, or rule pertinent to the administration of programs by the RRB, or, with respect to RRB employees, alleging misconduct or conflict of interest in the discharge of their official duties: Current and former employees of the Retirement Railroad Board; contractors; subcontractors; consultants, applicants for, and current and former recipients of, benefits under the programs administered by the Railroad Retirement Board; officials and agents of railroad employers; members of the public who are alleged to have stolen or unlawfully received RRB benefit or salary or assisted in such activity; and others who furnish information, products, or services to the RRB.

CATEGORIES OF RECORDS IN THE SYSTEM:

Letters, memoranda, and other documents alleging a violation of law, regulation or rule, or alleging misconduct, or conflict of interest; reports of investigations to resolve allegations with related exhibits, statements, affidavits or records obtained during the investigation; recommendations on actions to be taken; transcripts of, and documentation concerning requests and approval for, consensual monitoring of communications; photographs, video and audio recordings made as part of the investigation; reports from law enforcement agencies; prior criminal or noncriminal records as they relate to the investigation; reports of actions taken by management personnel regarding misconduct; reports of legal actions resulting from violations referred to the Department of Justice or other law enforcement agencies for prosecution.

AUTHORITY FOR MAINTENANCE OF THE SYSTEM:

Inspector General Act of 1978; Public Law 95-452, 5 U.S.C. App., as amended.

PURPOSE(S):

The Office of Inspector General maintains this system of records to carry out its statutory responsibilities under the Inspector General Act. These responsibilities include a mandate to investigate allegations of fraud, waste, and abuse related to the programs and operations of the RRB and to refer such matters to the Department of Justice for prosecution.

ROUTINE USES OF RECORDS MAINTAINED IN THE SYSTEM, INCLUDING CATEGORIES OF USERS, AND THE PURPOSES OF SUCH USES:

a. Records may be disclosed to the Department of Justice or other law enforcement authorities in connection with actual or potential criminal prosecution or civil litigation initiated by the RRB, or in connection with requests by RRB for legal advice.

b. Records may be disclosed to a Federal agency which has requested information relevant or necessary to its hiring or retention of an employee or the issuance of a security clearance, provided that the subject individual is not an individual on whom the RRB has obtained information in conjunction with its administration of the Railroad Retirement Act, the Railroad Unemployment Act, the Milwaukee Railroad Restructuring Act, or the Rock Island Railroad Transition and Employee Assistance Act.

c. Records may be disclosed to members of the Council of Inspectors General for Integrity and Efficiency for the preparation of reports to the President and Congress on the activities of the Inspectors General.

d. Records may be disclosed to members of the Council of Inspectors General for Integrity and Efficiency, or the Department of Justice, as necessary, for the purpose of conducting qualitative assessment reviews of the investigative operations of RRB-OIG to ensure that adequate internal safeguards and management procedures are maintained.

DISCLOSURE TO CONSUMER REPORTING AGENCIES:

None.

POLICIES AND PRACTICES FOR STORING, RETRIEVING, ACCESSING, RETAINING, AND DISPOSING OF RECORDS IN THE SYSTEM:

STORAGE:

Paper, Magnetic tape and Magnetic disk.

RETRIEVABILITY:

Name, SSN, RRB Claim Number, and assigned number, all of which are cross-referenced to the other information.

SAFEGUARDS:

General access is restricted to the Inspector General and members of his staff; disclosure within the agency is on a limited need-to-know basis.

Paper: Maintained in areas not accessible to the public in metal filing cabinents. Offices are locked during non-business hours. Building has 24 hour on-site security officers, closed circuit television monitoring and intrusion detection systems.

Magnetic tape and magnetic disk: Computer and computer storage rooms are restricted to authorized personnel; on-line query safeguards include a lock/unlock password system, a terminal oriented transaction matrix, role based access controls and audit trail. For electronic records, system securities are established in accordance with National Institute of Standards and Technology (NIST) guidelines, including network monitoring, defenses in-depth, incident response and forensics. In addition to the on-line query safeguards, they include encryption of all data transmitted and exclusive use of leased telephone lines.

RETENTION AND DISPOSAL:

Paper: Retained for 10 years after the investigation has been closed. They are destroyed in accordance with NIST guidlines, in the fiscal year following the expiration of the 10-year retention period.

Magnetic tape: Magnetic tape records are retained for 90 days and then written over following NIST guidelines. For disaster recovery purposes certain tapes are stored 12-18 months.

Magnetic disk: Retained until no longer required for any operational or administrative purposes When magnetic disk or other electronic media is no longer required or servicable, it is sanitized in accordance with NIST guidelines.

SYSTEM MANAGER(S) AND ADDRESS:

Assistant Inspector General, Office of Inspector General, U.S. Railroad Retirement Board, 844 Rush Street, Chicago, Illinois 60611.

NOTIFICATION PROCEDURE:

Requests for information regarding an individual's record should be in writing addressed to the System Manager identified above, including the full name, claim number, and social security number of the individual. Before information about any record will be released, the System Manager may require the individual to provide proof of identity or require the requester to furnish an authorization from the individual to permit release of information. Many records in this system are exempt from the notification requirements under 5 U.S.C. 552a(k). To the extent that records in this system of records are not subject to exemption, they are subject to notification. A determination whether an exemption applies shall be made at the time a request for notification is received.

RECORD ACCESS PROCEDURE:

Requests for access to the record of an individual and requests to contest such a record should be in writing addressed to the System Manager identified above, including the full name, claim number, and social security number of the individual. Before information about any record will be released, the System Manager may require the individual to provide proof of identity or require the requester to furnish an authorization from the individual to permit release of information. Many records in this system are exempt from the records access and contesting requirements under 5 U.S.C. 552a(k). To the extent that records in this system of records are not subject to exemption, they are subject to access and contest requirements. A determination as to whether an exemption applies shall be made at the time a request for access or contest is received.

CONTESTING RECORD PROCEDURE:

See notification section above.

RECORD SOURCE CATEGORIES:

The subject; the complainant; third parties, including but not limited to employers and financial institutions; local, state, and federal agencies; and other RRB record systems.

EXEMPTIONS CLAIMED FOR THE SYSTEM:

Pursuant to 5 U.S.C. 552a(j)(2) records in this system of records which are compiled for the purposes of criminal investigations are exempted from the requirements under 5 U.S.C. 552a(c)(3) and (4) (Accounting of Certain Disclosures), (d) (Access to Records), (e)(1), (2), (3), (4), (G), (H), and (I), (5) and (8) (Agency Requirements), (f) (Agency Rules), and (g) (Civil Remedies) of 5 U.S.C. 552a.

Pursuant to 5 U.S.C. 552a(k)(2) records in this system of records which consist of investigatory material compiled for law enforcement purposes are exempted from the notice, access and contest requirements under 5 U.S.C. 552a(c)(3), (d) (e)(1), (e)(4)(G), (H), and (I) and (f); however, if any individual is denied any right, privilege, or benefit to which the individual would otherwise be eligible as a result of the maintenance of such material, such material shall be provided to such individual except to the extent that disclosure of such material would reveal the identity of a source who furnished information to the Government under an express promise that the identity of the source would be held in confidence.

The reasons why the head of the Railroad Retirement Board decided to exempt this system of records under 5 U.S.C. 552a(k) are given in 20 CFR 200(f) and (g).

* * * * *

RRB-44-45 [Reserved]

* * * * *

RRB-46

SYSTEM NAME:

Personnel Security Files.

SYSTEM LOCATION:

U.S. Railroad Retirement Board, 844 North Rush Street, Chicago, Illinois 60611-2092

SECURITY CLASSIFICATION:

None.

CATEGORIES OF INDIVIDUALS COVERED BY THE SYSTEM:

Current and former Railroad Retirement Board (RRB) employees and individuals being considered for possible employment, or contractor work, by the RRB.

CATEGORIES OF RECORDS IN THE SYSTEM: (Updated)

Completed and signed suitability investigation requests (investigations submitted through the automated system, eQIP, will not have a completed and signed investigation request form as this would be filled out via the web-based system); information concerning identity source documents; results of applicable background checks; copies of relevant material used to validate applicant's identity, including photos and fingerprint impressions. Records of actions taken by the Railroad Retirement Board in a personnel security investigation. If the action is favorable, the information will include identifying information and the action taken; if the action is unfavorable, the information will include the basis of the action which may be a summary of, or a selection, of information contained in an OPM investigation report. Information in an OPM investigation report may include: date and place of birth, marital status, dates and places of employment, foreign countries visited, membership in organizations, birth date and place of birth of relatives, arrest records, prior employment reports, dates and levels of clearances, and names of agencies and dates when, and reasons why, they were provided clearance information on Board employees.

Note: This system of records does not include the OPM investigation report itself, even though it is in possession of the Railroad Retirement Board. The report is covered under the System of Records OPM Central-9. Access to the report is governed by OPM.

AUTHORITY FOR MAINTENANCE OF THE SYSTEM:

Executive Order 10450, OMB Circular A-130 dated December 15, 1985, and Homeland Security Presidential Directive 12.

PURPOSE(S):

The purpose of this system of records is to maintain files documenting the processing of investigations on RRB employees and applicants for employment or contract work used in making security/suitability determinations.

ROUTINE USES OF RECORDS MAINTAINED IN THE SYSTEM, INCLUDING CATEGORIES OF USERS, AND THE PURPOSES OF SUCH USES:

a. Records may be disclosed to the Office of Personnel Management in carrying out its functions.

b. Records may be disclosed to an agency in the executive, legislative, or judicial branch, or the District of Columbia Government, in response to its request, in connection with the hiring or retention of an employee, the issuance of a security clearance, the conducting of a security or suitability investigation of an individual, the classifying of jobs, the letting of a contract, or the issuance of a license, grant or other benefit by the requesting agency, to the extent that the information is relevant and necessary to the requesting agency's decision on the matter.

c. In the event of litigation where one of the parties is (1) the Board, any component of the Board, or any employee of the Board in his or her official capacity; (2) the United States where the Board determines that the claim, if successful, is likely to directly affect the operations of the Board or any of its components; or (3) any Board employee in his or her individual capacity where the Justice Department has agreed to represent such employees, the Board may disclose such records as it deems desirable or necessary to the Department of Justice to enable that Department to effectively represent such party, provided such disclosure is compatible with the purpose for which the records were collected.

d. Disclosure may be made to the PIV card applicant's representative at the request of the individual who is applying for a PIV card with the RRB.

DISCLOSURE TO CONSUMER REPORTING AGENCIES:

None.

POLICIES AND PRACTICES FOR STORING, RETRIEVING, ACCESSING, RETAINING, AND DISPOSING OF RECORDS IN THE SYSTEM:

STORAGE: (Updated)

Paper and Electronic.

RETRIEVABILITY:

Name.

SAFEGUARDS: (Updated)

The records are kept in secure storage, in a locked room. Access to RRB paper and electronic personnel security files is limited to the Director of Human Resources (Personnel Security Officer) and the Chief of Human Services and Labor Relations. Access to contractor personnel security files is limited to the Director of Administration. Access to OIG personnel security files is limited to the Assistant Inspector General for Investigations. Offices are locked during non-business hours. Building has 24 hour on-site security officers, closed circuit television monitoring and intrusion detection systems.

RETENTION AND DISPOSAL:

Destroy upon notification of death or not later than 5 years after separation or transfer of employee, whichever is applicable. Destruction is in accordance with NIST guidelines.

SYSTEM MANAGER(S) AND ADDRESS:

For RRB Employees: Human Resources Security Officer, U.S. Railroad Retirement Board, 844 North Rush Street, Chicago, Illinois 60611-2092.

For RRB OIG Employees: Assistant Inspector General for Investigations, U.S. Railroad Retirement Board, 844 North Rush Street, Chicago, Illinois 60611-2092.

For Contractors: Director of Administration, U.S. Railroad Retirement Board, 844 North Rush Street, Chicago, Illinois 60611-2092.

NOTIFICATION PROCEDURE:

Requests for information regarding an individual's record should be in writing addressed to the System Manager identified above, including the full name and of the individual. Before information about any record will be released, the System Manager may require the individual to provide proof of identity or require the requester to furnish an authorization from the individual to permit release of information.

RECORD ACCESS PROCEDURE:

See Notification section above.

CONTESTING RECORD PROCEDURE:

See Notification section above.

RECORD SOURCE CATEGORIES:

The individual to whom the information applies, the Railroad Retirement Board, the Office of Personnel Management, the FBI and other law enforcement agencies, and other third parties.

EXEMPTIONS CLAIMED FOR THE SYSTEM:

None.

* * * * *

RRB-47 [Reserved]

* * * * *

RRB-48

SYSTEM NAME:

Physical Access Management System.

SYSTEM LOCATION:

U.S. Railroad Retirement Board, 844 North Rush Street, Chicago, Illinois 60611-2092.

SECURITY CLASSIFICATION:

None.

CATEGORIES OF INDIVIDUALS COVERED BY THE SYSTEM:

All Railroad Retirement Board employees, contractors, Federal agency tenant employees, and other persons assigned responsibilities that require the issuance of credentials for identification and/or access privileges to secure locations within the agency's headquarters facility.

CATEGORIES OF RECORDS IN THE SYSTEM:

Records of completed and signed RRB key card and personal identity verification (PIV) requests; name, photograph, signature, social security account number, date of birth, ID badge serial number, date and time of requests for access, system record of access granted and/or allowed.

AUTHORITY FOR MAINTENANCE OF THE SYSTEM:

Homeland Security Presidential Directive 12; Federal Information Processing Standards 201; Federal Property and Administrative Act of 1949, as amended.

PURPOSE(S):

The purpose of this system of records is to validate individuals who have been given credentials to access federally controlled property, secured areas or information systems.

ROUTINE USES OF RECORDS MAINTAINED IN THE SYSTEM, INCLUDING CATEGORIES OF USERS, AND THE PURPOSES OF SUCH USES:

a. Records may be disclosed to another Federal agency or to a court when the government is party to a judicial proceeding before the court.

b. Records may be disclosed to a Federal agency, on request, in connection with the hiring and/or retention of an employee.

c. Records may be disclosed to officials of the Merit Systems Protection Board, including the Office of Special Counsel; the Federal Labor Relations Authority and its General Counsel; or the Equal Employment Opportunity Commission when requested in the performance of their authorized duties.

d. Records may be disclosed to an authorized appeal or grievance examiner, formal complaints examiner, equal employment opportunity investigator, arbitrator, or other duly authorized official engaged in investigation or settlement of a grievance, complaint, or appeal filed by an employee to whom the information pertains.

e. Records may be disclosed to the agency's Office of Inspector General for any official investigation or review related to the programs and operations of the RRB.

f. Records may be disclosed to agency officials for any official investigation or review related to the programs and operations of the RRB.

DISCLOSURE TO CONSUMER REPORTING AGENCIES:

None.

POLICIES AND PRACTICES FOR STORING, RETRIEVING, ACCESSING, RETAINING, AND DISPOSING OF RECORDS IN THE SYSTEM:

STORAGE:

Electronic records.

RETRIEVABILITY:

Name, badge serial number.

SAFEGUARDS:

The records are secured in a locked room. Access to records of completed and signed personal identity verification requests of RRB employees is limited to the Director of Human Resources. Access to all other records is limited to the Assistant to the Director of Administration. Access to the electronic records is limited to RRB employees and official designated as registrars, deputy-registrars and issuers; it is also controlled through a user id and password security process. The security mechanism also limits access to data based on a user's role needs for accessing the data.

RETENTION AND DISPOSAL:

Destroy 5 years after final entry or 5 years after date of document, as appropriate, in accordance with NIST guidelines.

SYSTEM MANAGER(S) AND ADDRESS:

Director of Human Resources, U.S. Railroad Retirement Board, 844 North Rush Street, Chicago, Illinois 60611-2092.

Assistant to the Director of Administration, U.S. Railroad Retirement Board, 844 North Rush Street, Chicago, Illinois 60611-2092.

NOTIFICATION PROCEDURE:

Requests for information regarding an individual's record(s) should be in writing to the System Manager(s) identified above, and must include the full name. Before information about any record will be released, the System Manager(s) may require the individual to provide proof of identity or require the requestor to furnish an authorization from the individual to permit release of information.

RECORD ACCESS PROCEDURE:

See Notification section above.

CONTESTING RECORD PROCEDURE:

See Notification section above.

RECORD SOURCE CATEGORIES:

Individuals to whom building passes are issued.

EXEMPTIONS CLAIMED FOR THE SYSTEM:

None.

* * * * *

RRB-49

SYSTEM NAME:

Telephone Call Detail Records.

SYSTEM LOCATION:

U.S. Railroad Retirement Board, 844 North Rush Street, Chicago, Illinois 60611-2092.

SECURITY CLASSIFICATION:

None.

CATEGORIES OF INDIVIDUALS COVERED BY THE SYSTEM:

Individuals (generally agency employees and contractor personnel) who make or receive telephone calls from agency owned telephones at the agency's 844 North Rush Street headquarters building.

CATEGORIES OF RECORDS IN THE SYSTEM:

Name of employee, telephone number, location of telephone, date and time phone call made or received, duration of call, telephone number called from agency telephone, city and state of telephone number called, cost of call made on agency phone.

AUTHORITY FOR MAINTENANCE OF THE SYSTEM:

31 U.S.C. 1348(b).

PURPOSE(S):

The purpose of this system of records are to verify the correctness of telephone service billing and to detect and deter possible improper use of agency telephones by agency employees and contractors.

ROUTINE USES OF RECORDS MAINTAINED IN THE SYSTEM, INCLUDING CATEGORIES OF USERS, AND THE PURPOSES OF SUCH USES:

a. Relevant records may be released to a telecommunications company providing support to permit servicing the account.

b. Relevant records may be disclosed to representatives of the General Services Administration or the National Archives and Records Administration who are conducting records management inspections under the authority of 44 U.S.C. 2904 and 2906.

c. Records may be disclosed in response to a request for discovery or for the appearance of a witness, to the extent that what is disclosed is relevant to the subject matter involved in a pending judicial or administrative proceeding.

d. Records may be disclosed in a proceeding before a court or adjudicative body to the extent that they are relevant and necessary to the proceeding.

e. Relevant records may be disclosed to respond to a Federal agency's request made in connection with the hiring or retention of an employee, the letting of a contract or issuance of a grant, license or other benefit by the requesting agency, but only to the extent that the information disclosed is relevant and necessary to the requesting agency's decision on the matter.

DISCLOSURE TO CONSUMER REPORTING AGENCIES:

None.

POLICIES AND PRACTICES FOR STORING, RETRIEVING, ACCESSING, RETAINING, AND DISPOSING OF RECORDS IN THE SYSTEM:

STORAGE:

Paper and Magnetic disk.

RETRIEVABILITY:

Name, telephone extension, number dialed.

SAFEGUARDS:

Paper: Maintained in areas not accessible to the public in metal filing cabinents. Access is limited to authorizied RRB employees. Offices are locked during non-business hours. Building has 24 hour on-site security officers, closed circuit television monitoring and intrusion detection systems.

Magnetic disk: Computer and computer storage rooms are restricted to authorized personnel; on-line query safeguards include a lock/unlock password system, a terminal oriented transaction matrix, role based access controls and audit trail. System securities are established in accordance with National Institute of Standards and Technology (NIST) guidelines, including network monitoring, defenses in-depth, incident response and forensics.

RETENTION AND DISPOSAL:

Paper. Reports, when issued, are disposed of as provided in National Archives and Records Administration General Records Schedule 12—Destroy when 3 years old. Initial reports may be destroyed earlier if the information needed to identify abuse has been captured in other records.

Magnetic disk: Maintained for approximately 180 days and then overwritten, following NIST guidelines. When magnetic disk or other electronic media is no longer required or servicable, it is sanitized in accordance with NIST guidelines.

SYSTEM MANAGER(S) AND ADDRESS:

Director of Administration, U.S. Railroad Retirement Board, 844 North Rush Street, Chicago, Illinois 60611-2092.

NOTIFICATION PROCEDURE:

Requests for information regarding an individual's record should be in writing addressed to the Systems Manager identified above, including the full name.

RECORD ACCESS PROCEDURE:

See Notification section above.

CONTESTING RECORD PROCEDURE:

See Notification section above.

RECORD SOURCE CATEGORIES:

Telephone assignment records; computer software that captures telephone call information and permits query and reports generation.

EXEMPTIONS CLAIMED FOR THE SYSTEM:

None.

* * * * *

RRB-50

SYSTEM NAME:

Child Care Tuition Assistance Program.

SYSTEM LOCATION:

U.S. Railroad Retirement Board, 844 North Rush Street, Chicago, Illinois 60611-2092.

SECURITY CLASSIFICATION:

None.

CATEGORIES OF INDIVIDUALS COVERED BY THE SYSTEM:

Current and former Railroad Retirement Board employees who voluntarily applied for child care tuition assistance, the employee's spouse, the employee's children and their child care providers.

CATEGORIES OF RECORDS IN THE SYSTEM:

Employee (parent) name, Social Security Number, pay grade, home and work numbers, addresses, total family income, spouse employment information, names of children on whose behalf the employee parent is applying for tuition assistance, each applicable child's date of birth, information on child care providers used (including name, address, provider license number and state where issued, tuition cost, and provided tax identification number), and copies of IRS Form 1040 and 1040A for verification purposes. Other records may include the child's social security number, weekly expense, pay statements, records relating to direct deposits, verification of qualification and administration for child care assistance.

AUTHORITY FOR MAINTENANCE OF THE SYSTEM:

Public Law 107-67, section 630 and E.O. 9397.

PURPOSE(S):

The purpose of the system is to determine eligibility for, and the amount of, the child care tuition assistance for lower income RRB employees.

ROUTINE USES OF RECORDS MAINTAINED IN THE SYSTEM, INCLUDING CATEGORIES OF USERS, AND THE PURPOSES OF SUCH USES:

a. Records may be disclosed in response to a request for discovery or for the appearance or a witness, to the extent that what is disclosed is relevant to the subject matter involved in a pending judicial or administrative proceeding.

b. Records may be disclosed in a proceeding before a court or adjudicative body to the extent that they are relevant and necessary to the proceeding.

c. Relevant records may be disclosed to respond to a Federal agency's request made in connection with the hiring or retention of an employee, the letting of a contract or issuance of a grant, license or other benefit by the requesting agency, but only to the extent that the information disclosed is relevant and necessary to the requesting agency's decision on the matter.

d. Relevant records may be disclosed to the Office of Personnel Management or the General Accountability Office when the information is required for evaluation of the subsidy program.

e. Relevant records may be disclosed to child care providers to verify a covered child's dates of attendance at the provider's facility.

DISCLOSURE TO CONSUMER REPORTING AGENCIES:

None.

POLICIES AND PRACTICES FOR STORING, RETRIEVING, ACCESSING, RETAINING, AND DISPOSING OF RECORDS IN THE SYSTEM:

STORAGE:

Paper, Magnetic tape and Magnetic disk.

RETRIEVABILITY:

Name, Social Security Number.

SAFEGUARDS:

Paper: Maintained in areas not accessible to the public in locking filing cabinents until shipment to the Federal facility that is responsible for the Federal Employees Education and Assistance Fund (FEEA). Access is limited to authorizied Federal employees. Offices are locked during non-business hours. Building has 24 hour on-site security officers, closed circuit television monitoring and intrusion detection systems.

Magnetic tape and magnetic disk: Computer and computer storage rooms are restricted to authorized personnel; on-line query safeguards include a lock/unlock password system, a terminal oriented transaction matrix, role based access controls and audit trail. For electronic records, system securities are established in accordance with National Institute of Standards and Technology (NIST) guidelines, including network monitoring, defenses in-depth, incident response and forensics. In addition to the on-line query safeguards, they include encryption of all data transmitted and exclusive use of leased telephone lines.

RETENTION AND DISPOSAL:

These records will be maintained permanently at FEEA until their official retention period is established by the National Archives and Records Administration (NARA).

SYSTEM MANAGER(S) AND ADDRESS:

Director of Human Resources, U.S. Railroad Retirement Board, 844 North Rush Street, Chicago, Illinois 60611-2092.

NOTIFICATION PROCEDURE:

Requests for information regarding an individual's record should be in writing addressed to the Systems Manager identified above, including the full name and social security number of the individual. Before information about any record will be released, the System Manager may require the individual to provide proof of identity or require the requester to furnish an authorization from the individual to permit release of information.

RECORD ACCESS PROCEDURE:

See Notification section above.

CONTESTING RECORD PROCEDURE:

See Notification section above.

RECORD SOURCE CATEGORIES:

Applications for child care tuition assistance submitted voluntarily by RRB employees; forms completed by child care providers.

EXEMPTIONS CLAIMED FOR THE SYSTEM:

None.

* * * * *

RRB-51

SYSTEM NAME:

Railroad Retirement Board's Customer PIN/Password (PPW) Master File System.

SYSTEM LOCATION:

U.S. Railroad Retirement Board, 844 North Rush Street, Chicago, Illinois 60611-2092.

SECURITY CLASSIFICATION:

None.

CATEGORIES OF INDIVIDUALS COVERED BY THE SYSTEM:

All RRB customers (applicants, claimants, annuitants and other customers) who elect to conduct transactions with RRB in an electronic business environment that requires the PPW infrastructure, as well as those customers who elect to block PPW access to RRB electronic transactions by requesting RRB to disable their PPW capabilities.

CATEGORIES OF RECORDS IN THE SYSTEM:

The information includes identifying information such as the customer's name, Social Security number, personal identification number (PIN)) and mailing address. The system also maintains the customer's Password Request Code (PRC), the password itself, and the authorization level and associated data (e.g. effective date of authorization).

AUTHORITY FOR MAINTENANCE OF THE SYSTEM:

Sec. 2(b)(6) of the Railroad Retirement Act, 45 U.S.C. 231f(b)(6); and the Government Paperwork Elimination Act.

PURPOSE(S):

The purpose of this system is to enable RRB customers who wish to conduct business with the RRB to do so in a secure environment.

ROUTINE USES OF RECORDS MAINTAINED IN THE SYSTEM, INCLUDING CATEGORIES OF USERS, AND THE PURPOSES OF SUCH USES:

a. Records may be disclosed in response to a request for discovery or for the appearance of a witness, to the extent that what is disclosed is relevant to the subject matter involved in a pending judicial or administrative proceeding and provided that the disclosure would be clearly in the furtherance of the interest of the subject individual.

b. Records may be disclosed in a proceeding before a court or adjudicative body to the extent that they are relevant and necessary to the proceeding and provided that the disclosure would be clearly in the furtherance of the interest of the subject individual.

DISCLOSURE TO CONSUMER REPORTING AGENCIES:

None.

POLICIES AND PRACTICES FOR STORING, RETRIEVING, ACCESSING, RETAINING, AND DISPOSING OF RECORDS IN THE SYSTEM:

STORAGE:

Paper, and Magnetic disk.

RETRIEVABILITY:

Name and Social Security number.

SAFEGUARDS:

Paper: Maintained in areas not accessible to the public in metal filing cabinents. Access is limited to authorizied RRB employees. Offices are locked during non-business hours. Building has 24 hour on-site security officers, closed circuit television monitoring and intrusion detection systems.

Magnetic disk: Computer and computer storage rooms are restricted to authorized personnel; on-line query safeguards include a lock/unlock password system, a terminal oriented transaction matrix, role based access controls and audit trail. For electronic records, system securities are established in accordance with National Institute of Standards and Technology (NIST) guidelines, including network monitoring, defenses in-depth, incident response and forensics. In addition to the on-line query safeguards, they include encryption of all data transmitted and exclusive use of leased telephone lines.

RETENTION AND DISPOSAL:

These records will be maintained permanently until their official retention period is established by the National Archives and Records Administration (NARA).

SYSTEM MANAGER(S) AND ADDRESS:

Office of Programs—Director of Policy and Systems, U.S. Railroad Retirement Board, 844 North Rush Street, Chicago, Illinois 60611-2092.

NOTIFICATION PROCEDURE:

Requests for information regarding an individual's record should be in writing addressed to the Systems Manager identified above, including the full name and social security number of the individual. Before information about any record will be released, the System Manager may require the individual to provide proof of identity or require the requester to furnish an authorization from the individual to permit release of information.

RECORD ACCESS PROCEDURE:

See Notification section above.

CONTESTING RECORD PROCEDURE:

See Notification section above.

RECORD SOURCE CATEGORIES:

Data for the system are obtained primarily from the individuals to whom the record pertains.

EXEMPTIONS CLAIMED FOR THE SYSTEM:

None

* * * * *

RRB-52

SYSTEM NAME:

SYSTEM LOCATION:

U.S. Railroad Retirement Board, 844 North Rush Street, Chicago, Illinois 60611-2092.

SECURITY CLASSIFICATION:

None

CATEGORIES OF INDIVIDUALS COVERED BY THE SYSTEM:

Appellants for benefits under the Railroad Retirement or Railroad Unemployment Insurance Acts

CATEGORIES OF RECORDS IN THE SYSTEM:

Appellant name, social security number, railroad retirement board claim number, address, date of birth, sex, medical records, marriage or relationship records, military service, creditable earnings and service months, benefit payment history, work history, citizenship and legal residency status, correspondence and inquiries, and appeals of adverse determinations.

AUTHORITY FOR MAINTENANCE OF THE SYSTEM:

Section 7(b)(6) of the Railroad Retirement Act of 1974 (45 U.S.C. 231f(b)(6); sec. 12(l) of the Railroad Unemployment Insurance Act (45 U.S.C. 362(l)).

PURPOSE(S):

Record decisions of The Board in benefit appeals cases.

ROUTINE USES OF RECORDS MAINTAINED IN THE SYSTEM, INCLUDING CATEGORIES OF USERS, AND THE PURPOSES OF SUCH USES:

a. If a request for information pertaining to an individual is made by an official of a labor organization of which the individual is a member and the request is made on behalf of the individual, information from the record of the individual concerning his benefit or anticipated benefit and concerning the method of calculating that benefit may be disclosed to the labor organization official.

b. Records may be disclosed in a court proceeding relating to any claims for benefits by the beneficiary under the Railroad Retirement Act and may be disclosed during the course of an administrative appeal to individuals who need the records to prosecute or decide the appeal or to individuals who are requested to provide information relative to an issue involved in the appeal.

DISCLOSURE TO CONSUMER REPORTING AGENCIES:

None.

POLICIES AND PRACTICES FOR STORING, RETRIEVING, ACCESSING, RETAINING, AND DISPOSING OF RECORDS IN THE SYSTEM:

STORAGE:

Paper, Magnetic tape and Magnetic disk.

RETRIEVABILITY:

Name, railroad retirement claim number, social security account number, board order number, docket number.

SAFEGUARDS:

Paper: Maintained in areas not accessible to the public in metal filing cabinents. Access is limited to authorizied RRB employees. Offices are locked during non-business hours. Building has 24 hour on-site security officers, closed circuit television monitoring and intrusion detection systems.

Magnetic tape and magnetic disk: Computer and computer storage rooms are restricted to authorized personnel; on-line query safeguards include a lock/unlock password system, a terminal oriented transaction matrix, role based access controls and audit trail. System securities are established in accordance with National Institute of Standards and Technology (NIST) guidelines, including network monitoring, defenses in-depth, incident response and forensics.

RETENTION AND DISPOSAL:

No records from this system will be disposed of pending a record schedule determination by the National Archives and Records Administration (NARA).

SYSTEM MANAGER(S) AND ADDRESS:

Secretary of the Board, U.S. Railroad Retirement Board, 844 N. Rush Street, Chicago, Illinois 60611-2092.

NOTIFICATION PROCEDURE:

Requests for information regarding an individual's record should be in writing addressed to the System Manager identified above, including the full name and social security number and claim number of the individual. Before information about any record will be released, the System Manager may require the individual to provide proof of identity or require the requester to furnish an authorization from the individual to permit release of information.

RECORD ACCESS PROCEDURE:

See Notification section.

CONTESTING RECORD PROCEDURE:

See Notification section.

RECORD SOURCE CATEGORIES:

Applications for benefits and appeal of decisions.

EXEMPTIONS CLAIMED FOR THE SYSTEM:

None.

* * * * *

RRB-53

SYSTEM NAME:

Employee Medical and Eye Examination Reimbursement Program.

SYSTEM LOCATION:

U.S. Railroad Retirement Board, 844 N. Rush Street, Chicago, IL 60611-2092.

SECURITY CLASSIFICATION:

None.

CATEGORIES OF INDIVIDUALS COVERED BY THE SYSTEM:

Any RRB employees that request co-payment reimbursement for either eye or physical examinations.

CATEGORIES OF RECORDS IN THE SYSTEM:

RRB employee name and medical documentation including receipts for the physical exam co-pay and payment of the eye examination. Records prior to October 1, 2009 also contain the employee Social Security Number.

AUTHORITY FOR MAINTENANCE OF THE SYSTEM:

Section 7(b)(6) of the Railroad Retirement Act of 1974 (45 U.S.C. 231f(b)(6)) and Section 12(l) of the Railroad Unemployment Insurance Act (45 U.S.C. 362(1)). Negotiated Labor Management Agreement between the U.S. Railroad Retirement Board and the Council of American Federation of Government Employees (AFGE), Locals in the Railroad Retirement Board.

PURPOSE(S):

To provide reimbursement for and maintain the records of the RRB's physical and eye examination program. For purposes of adjudicating the claim and approving reimbursement of co-payment fees related to RRB employee physical and eye examinations.

ROUTINE USES OF RECORDS MAINTAINED IN THE SYSTEM, INCLUDING CATEGORIES OF USERS, AND THE PURPOSES OF SUCH USES:

Internal RRB Use.

DISCLOSURE TO CONSUMER REPORTING AGENCIES:

None.

POLICIES AND PRACTICES FOR STORING, RETRIEVING, ACCESSING, RETAINING, AND DISPOSING OF RECORDS IN THE SYSTEM:

STORAGE:

Paper, Magnetic disk.

RETRIEVABILITY:

Full name. Social security account number (for records prior to October 1, 2009).

SAFEGUARDS:

Paper: Maintained in areas not accessible to the public in metal filing cabinents. Access is limited to authorizied RRB employees. Offices are locked during non-business hours. Building has 24 hour on-site security officers, closed circuit television monitoring and intrusion detection systems.

Magnetic disk: Computer and computer storage rooms are restricted to authorized personnel; on-line query safeguards include a lock/unlock password system, a terminal oriented transaction matrix, role based access controls and audit trail. System securities are established in accordance with National Institute of Standards and Technology (NIST) guidelines, including network monitoring, defenses in-depth, incident response and forensics.

RETENTION AND DISPOSAL:

These records will be maintained permanently until their official retention period is established by the National Archives and Records Administration (NARA).

SYSTEM MANAGER(S) AND ADDRESS:

Employee Health Services, U.S. Railroad Retirement Board, 844 N. Rush Street, Chicago, Illinois 60611-2092

NOTIFICATION PROCEDURE:

Requests for information regarding an individual's record should be in writing addressed to the System Manager identified above, including the full name of the individual. Before information about any record will be released, the System Manager may require the individual to provide proof of identity or require the requester to furnish an authorization from the individual to permit release of information.

RECORD ACCESS PROCEDURE:

See Notification section.

CONTESTING RECORD PROCEDURE:

See Notification section.

RECORD SOURCE CATEGORIES:

Employee reimbursement claim and proofs.

EXEMPTIONS CLAIMED FOR THE SYSTEM:

None.

* * * * *

RRB-54

SYSTEM NAME:

Virtual Private Network (VPN) Access Management.

SYSTEM LOCATION:

U.S. Railroad Retirement Board, 844 N. Rush Street, Chicago, Illinois 60611-2092.

SECURITY CLASSIFICATION:

None.

CATEGORIES OF INDIVIDUALS COVERED BY THE SYSTEM:

RRB and other federal employees and contractors who are authorized to remotely access internal RRB information systems.

CATEGORIES OF RECORDS IN THE SYSTEM:

Name, home telephone number, work telephone number, authentication information, group name, source IP address, remote computer name, home address, software serial numbers, access levels.

AUTHORITY FOR MAINTENANCE OF THE SYSTEM:

Section 7(b)(6) of the Railroad Retirement Act of 1974 (45 U.S.C. 231f(b)(6)) and Section 12(l) of the Railroad Unemployment Insurance Act (45 U.S.C. 362(l)).

PURPOSE(S):

Manage employee and contractor remote access to internal RRB information systems for official business.

ROUTINE USES OF RECORDS MAINTAINED IN THE SYSTEM, INCLUDING CATEGORIES OF USERS, AND THE PURPOSES OF SUCH USES:

a. Records may be disclosed to another Federal agency or to a court when the government is party to a judicial proceeding before the court.

b. Records may be disclosed to a Federal agency, on request, in connection with the hiring and/or retention of an employee.

c. Records may be disclosed to officials of the Merit Systems Protection Board, including the Office of Special Counsel; the Federal Labor Relations Authority and its General Counsel; or the Equal Employment Opportunity Commission when requested in the performance of their authorized duties.

d. Records may be disclosed to an authorized appeal or grievance examiner, formal complaints examiner, equal employment opportunity investigator, arbitrator, or other duly authorized official engaged in investigation or settlement of a grievance, complaint, or appeal filed by an employee to whom the information pertains.

e. Records may be disclosed to the agency's Office of Inspector General for any official investigation or review related to the programs and operations of the RRB.

f. Records may be disclosed to agency officials for any official investigation or review related to the programs and operations of the RRB.

DISCLOSURE TO CONSUMER REPORTING AGENCIES:

None.

POLICIES AND PRACTICES FOR STORING, RETRIEVING, ACCESSING, RETAINING, AND DISPOSING OF RECORDS IN THE SYSTEM:

STORAGE:

Paper, Magnetic tape and Magnetic disk.

RETRIEVABILITY:

Name, email address.

SAFEGUARDS:

Paper: Maintained in areas not accessible to the public in metal filing cabinents. Access is limited to authorizied RRB employees. Offices are locked during non-business hours. Building has 24 hour on-site security officers, closed circuit television monitoring and intrusion detection systems.

Magnetic tape and magnetic disk: Computer and computer storage rooms are restricted to authorized personnel; on-line query safeguards include a lock/unlock password system, a terminal oriented transaction matrix, role based access controls and audit trail. For electronic records, system securities are established in accordance with National Institute of Standards and Technology (NIST) guidelines, including network monitoring, defenses in-depth, incident response and forensics. In addition to the on-line query safeguards, they include encryption of all data transmitted and exclusive use of leased telephone lines.

RETENTION AND DISPOSAL: (Updated)

Records requiring special accountability (access request, authorization, and profiles) or for investigative purposes are retained and then destroyed six years after the VPN account is terminated or no longer needed for investigative or security purposes.

Routine system access and monitoring records are retained and then destroyed one year after creation, unless needed for investigative or security purposes.

SYSTEM MANAGER(S) AND ADDRESS:

Chief of Infrastructure Services, U.S. Railroad Retirement Board, 844 N. Rush Street, Chicago, Illinois 60611-2092.

NOTIFICATION PROCEDURE:

Requests for information regarding an individual's record should be in writing addressed to the System Manager identified above, including the full name and enrolled email address of the individual. Before information about any record will be released, the System Manager may require the individual to provide proof of identity or require the requester to furnish an authorization from the individual to permit release of information.

RECORD ACCESS PROCEDURE:

See Notification procedure above.

CONTESTING RECORD PROCEDURE:

See Notification procedure above.

RECORD SOURCE CATEGORIES:

VPN access application Form G-68, and infrastructure profiles.

EXEMPTIONS CLAIMED FOR THE SYSTEM:

None.

* * * * *

RRB-55

SYSTEM NAME:

Contact Log.

SYSTEM LOCATION:

U.S. Railroad Retirement Board, 844 North Rush Street, Chicago, Illinois 60611-2092.

SECURITY CLASSIFICATION:

None.

CATEGORIES OF INDIVIDUALS COVERED BY THE SYSTEM:

Annuitants, their representatives and other recipients of railroad retirement, survivor, disability, Medicare and supplemental annuities payable under the Railroad Retirement Act (RRA) and individuals receiving or applying for unemployment or sickness insurance benefits payable under the Railroad Unemployment Insurance Act (RUIA).

CATEGORIES OF RECORDS IN THE SYSTEM:

The Railroad Retirement Board (RRB) claim number, social security number of the annuitant/claimant, annuitant's name, contact name (if different from the annuitant), telephone number of the contact, name and office code of the RRB employee who submitted the contact, and the entered contact record.

AUTHORITY FOR MAINTENANCE OF THE SYSTEM:

Section 7(b)(6) of the Railroad Retirement Act (RRA) of 1974 (45 U.S.C. 231f(b)(6); and Section 12(l) of the Railroad Unemployment Insurance Act (RUIA) (45 U.S.C. 362(1)).

PURPOSE(S): (Updated)

The Contact Log records, maintains and displays RRA and RUIA activities associated with customer initiated contacts with the RRB.

ROUTINE USES OF RECORDS MAINTAINED IN THE SYSTEM, INCLUDING CATEGORIES OF USERS, AND THE PURPOSES OF SUCH USES:

a. Disclosure of information concerning the annuitant/claimant may be made to the representative payee on the record for the annuitant.

b. Beneficiary identifying information may be disclosed to third party contacts to determine whether the beneficiary or potential beneficiary is capable of understanding and managing their benefit payments in their own best interest and to determine the suitability of a proposed representative payee.

c. Records may be disclosed in response to a request for discovery or for the appearance of a witness, to the extent what is disclosed is relevant to the subject matter involved in a pending judicial or administrative proceeding and provided the disclosure would be clearly in the furtherance of the interest of the subject individual.

d. Records may be disclosed in a proceeding before a court or adjudicative body to the extent they are relevant and necessary to the proceeding and provided the disclosure would be clearly in the furtherance of the interest of the subject individual.

e. Disclosure of records concerning the annuitant/claimant may be made to the attorney representing the annuitant/claimant, upon receipt of a written letter or declaration of representation.

f. Records may be disclosed to the annuitant/claimant's railroad union representative(s) to the extent what is disclosed is relevant to the subject matter involved in the union issue or proceeding and provided the disclosure would be clearly in the furtherance of the interest of the subject individual.

DISCLOSURE TO CONSUMER REPORTING AGENCIES:

None.

POLICIES AND PRACTICES FOR STORING, RETRIEVING, ACCESSING, RETAINING, AND DISPOSING OF RECORDS IN THE SYSTEM:

STORAGE:

Magnetic tape and Magnetic disk.

RETRIEVABILITY:

RRB claim number or social security account number.

SAFEGUARDS:

Computer and computer storage rooms are restricted to authorized personnel; on-line query safeguards include a lock/unlock password system, a terminal oriented transaction matrix, role based access controls and audit trail. For electronic records, system securities are established in accordance with National Institute of Standards and Technology (NIST) guidelines, including network monitoring, defenses in-depth, incident response and forensics. In addition to the on-line query safeguards, they include encryption of all data transmitted and exclusive use of leased telephone lines.

RETENTION AND DISPOSAL:

These records will be maintained permanently until their official retention period is established by the National Archives and Records Administration (NARA).

SYSTEM MANAGER(S) AND ADDRESS:

Office of Programs—Director of Policy and Systems, U.S. Railroad Retirement Board, 844 North Rush Street, Chicago, Illinois 60611-2092.

NOTIFICATION PROCEDURE:

Request for information regarding an individual's record should be in writing addressed to the System Manager identified above, including the full name and social security number. Before information about any record is released, the System Manager will require the individual to provide proof of identity or require the requester to furnish an authorization from the individual to permit release of information.

RECORD ACCESS PROCEDURE:

See Notification section above.

CONTESTING RECORD PROCEDURE:

See Notification section above.

RECORD SOURCE CATEGORIES:

Contact Log information is obtained from members of the public who contacted the RRB and to whom the record pertains.

EXEMPTIONS CLAIMED FOR THE SYSTEM:

None.

* * * * *

RRB-56

SYSTEM NAME:

Employee Service and Railroad Employer Coverage Determination Files.

SYSTEM LOCATION:

U.S. Railroad Retirement Board, 844 N. Rush Street, Chicago, Illinois 60611-2092.

SECURITY CLASSIFICATION:

None.

CATEGORIES OF INDIVIDUALS COVERED BY THE SYSTEM:

Railroad employees; individuals claiming railroad service; entities being considered as covered employers.

CATEGORIES OF RECORDS IN THE SYSTEM:

Individuals: Name, address, social security number, employment history. Employers: Name, Bureau of Accounts (B.A.) number, incorporation date, corporate structure, number of employees, services provided.

AUTHORITY FOR MAINTENANCE OF THE SYSTEM:

Section 7(b)(6) of the Railroad Retirement Act of 1974 (45 U.S.C. 231f(b)(6)); section 12(l) of the Railroad Retirement Unemployment Insurance Act (45 U.S.C. 362(l)); 20 CFR 259.

PURPOSE(S):

Records in this system or records are maintained to (1) record Board decisions as to who is an eligible employee of a covered entity for the purposes of benefit entitlement and (2) to record determinations as to who is an employer under the Railroad Retirement Act, for the purpose of a) crediting compensation and service months to employees for the purpose of benefits entitlement and b) assessment of appropriate taxes.

ROUTINE USES OF RECORDS MAINTAIN ED IN THE SYSTEM, INCLUDING CATEGORIES OF USERS, AND THE PURPOSES OF SUCH USES:

a. Identifying information such as full name, address, date of birth, social security number, employee identification number, and date last worked, may be released to any current or former employer to verify entitlement for benefits under the Railroad Retirement Act.

b. Certain identifying information about annuitants, such as name, social security number, RRB claim number, as well as address, year and month last worked for a railroad, last railroad occupation, identity of last railroad employer, and total months of railroad service may be furnished to railroad employers for purpose of determining whether annuitant has performed employee service for that employer, and therefore is entitled to benefits under the Railroad Retirement Act.

c. Certain information about annuitants such as year and month last worked for a railroad, the name(s) of railroad employer(s) the annuitant worked for, last railroad occupation, and total months of railroad service may be furnished to bonafide genealogical requests.

d. Board determinations regarding employer status are furnished to the Internal Revenue Service (IRS) as the administrator of the Railroad Retirement Tax Act (RRTA).

DISCLOSURE TO CONSUMER REPORTING AGENCIES:

None.

POLICIES AND PRACTICES FOR STORING, RETRIEVING, ACCESSING, RETAINING, AND DISPOSING OF RECORDS IN THE SYSTEM:

STORAGE:

Paper, Magnetic tape and Magnetic disk.

RETRIEVABILITY:

Name, email address.

SAFEGUARDS:

Paper: Maintained in areas not accessible to the public in metal filing cabinents. Access is limited to authorizied RRB employees. Offices are locked during non-business hours. Building has 24 hour on-site security officers, closed circuit television monitoring and intrusion detection systems.

Magnetic tape and magnetic disk: Computer and computer storage rooms are restricted to authorized personnel; on-line query safeguards include a lock/unlock password system, a terminal oriented transaction matrix, role based access controls and audit trail. For electronic records, system securities are established in accordance with National Institute of Standards and Technology (NIST) guidelines, including network monitoring, defenses in-depth, incident response and forensics. In addition to the on-line query safeguards, they include encryption of all data transmitted and exclusive use of leased telephone lines.

RETENTION AND DISPOSAL:

Paper: For employee service records: Maintained for 90 days after imaging is completed, then destroyed. For employer coverage records: Maintained for 10 years after coverage is terminated, then destroyed in accordance with NIST guidelines.

Magnetic tape: Magnetic tape records are used to daily update the disk file, are retained for 90 days and then written over following NIST guidelines. For disaster recovery purposes certain tapes are stored 12-18 months.

Magnetic disk: Continually updated and permanently retained. When magnetic disk or other electronic media is no longer servicable, it is sanitized in accordance with NIST guidelines.

SYSTEM MANAGER(S) AND ADDRESS:

Office of the General Counsel, U.S. Railroad Retirement Board, 844 North Rush Street, Chicago, Illinois 60611-2092.

NOTIFICATION PROCEDURE:

Requests for information regarding an individual's records should be in writing, including the full name, social security number and railroad retirement claim number (if any) of the individual. Before information about any records will be released, the individual may be required to provide proof of identity, or authorization from the individual to permit release of information. Requests should be sent to the Office of the General Counsel, U.S. Railroad Retirement Board, 844 North Rush Street, Chicago, Illinois 60611-2092.

Requests for information regarding a railroad employer's records should be in writing, including the full corporate name, address, B.A. number (if any) of the company. Requests should be sent to the Office of the General Counsel, U.S. Railroad Retirement Board, 844 North Rush Street, Chicago, Illinois 60611-2092.

RECORD ACCESS PROCEDURE:

See Notification procedure above.

CONTESTING RECORD PROCEDURE:

See Notification procedure above.

RECORD SOURCE CATEGORIES:

Individual applicants or their representatives, railroad and other employers.

EXEMPTIONS CLAIMED FOR THE SYSTEM:

None.

* * * * *

RRB-57

SYSTEM NAME:

Employee Emergency Notification System.

SYSTEM LOCATION:

U.S. Railroad Retirement Board, 844 Rush Street, Chicago, Illinois 60611.

SECURITY CLASSIFICATION:

None.

CATEGORIES OF INDIVIDUALS COVERED BY THE SYSTEM:

RRB Employees and Contractors.

CATEGORIES OF RECORDS IN THE SYSTEM:

The emergency notification system will contain both public and personal contact information for RRB employees and contractors.

PUBLIC INFORMATION STORED IN THIS SYSTEM INCLUDES:

a. Employee name and organizational unit; Contractor name and organization.

PERSONAL INFORMATION STORED IN THIS SYSTEM MAY INCLUDE:

a. Work telephone, cellular, fax number(s) and email address(es)

b. Identifying technical information for work issued Personal Digital Assistants (PDAs), cellular telephones, or other electronic devices, such as Serial Numbers, Electronic Serial Numbers, etc.

c. Home telephone, cellular number(s), personal email address(es) and Zip code of residence.

AUTHORITY FOR MAINTENANCE OF THE SYSTEM:

a. 5 U.S.C. 301, Department Regulations.

b. Executive Order (EO) 12656, Assignment of emergency preparedness responsibilities, November 18, 1988.

c. Homeland Security Presidential Directive (HSPD)—20, National Continuity Policy, May 9, 2007.

PURPOSE(S):

The purpose of this system of records is to maintain emergency contact information for employees and select contractors of the U.S. Railroad Retirement Board (RRB). The system provides for multiple communication device notification via telephonic, fax, text and electronic mail message delivery to registered RRB personnel in response to threat alerts issued by the Department of Homeland Security, activation of the Continuity of Operations Plan (COOP), weather related emergencies or other critical situations that may disrupt the operations and accessibility of the agency. The system also provides for the receipt of real-time message acknowledgements and related management reports.

ROUTINE USES OF RECORDS MAINTAINED IN THE SYSTEM, INCLUDING CATEGORIES OF USERS, AND THE PURPOSES OF SUCH USES:

In addition to the conditions of disclosure listed in 5 U.S.C. 552a(b) of the Privacy Act and the RRB's Standard Disclosures, the RRB may release these records to any Federal government authority for the purpose of coordinating and reviewing agency continuity of operations plans or emergency contingency plans developed for responding to Department of Homeland Security threat alerts, weather related emergencies or other critical situations.

DISCLOSURE TO CONSUMER REPORTING AGENCIES:

None.

POLICIES AND PRACTICES FOR STORING, RETRIEVING, ACCESSING, RETAINING, AND DISPOSING OF RECORDS IN THE SYSTEM:

STORAGE:

Paper, magnetic tape, magnetic disk.

RETRIEVABILITY:

Name, Organizational Unit, Telephone, Fax or Cellular number, serial or electronic serial number or other unique identifier (work issued devices only), Email address, or Residence Zip Code.

SAFEGUARDS:

1. Paper: Maintained in areas not accessible to the public in metal filing cabinets at the RRB. Access is limited to authorized RRB employees. Records are stored in an office that has electronic access controlled doors. Building has 24 hour on-site security officers, closed circuit television monitoring and intrusion detection systems.

2. Magnetic tape and disks: Located at off-site commercial vendor data center. Computer and computer storage rooms are restricted to authorized personnel, have electronic access controlled doors. On-line query safeguards include a lock/unlock password system, a terminal oriented transaction matrix, role based access controls and audit trail. For electronic records, system securities are established in accordance with National Institute of Standards and Technology (NIST) guidelines, including network monitoring, defenses in-depth, incident response and forensics. In addition to the on-line query safeguards, they include encryption of data both at rest and in-transit.

RETENTION AND DISPOSAL:

1. Emergency Contract Information.

a. General. Records are maintained as long as the employee or contractor is working for or on the behalf of the RRB.

b. Paper Records. Destroy 90 days after the date entered into the system or after completion of the quality assurance process, whichever is later.

c. Electronic Records. Destroy within 90 days after the employee/contractor ceases employment/contract with the RRB.

2. Operational Data.

a. Actual messages, results and data. Cut off at end of fiscal year, destroyed at the end of the following fiscal year.

b. Test messages, results and data. Cut off at end of fiscal year, destroyed at the end of the following fiscal year.

3. Reports. Retained and disposal in accordance with National Archives and Records Administration (NARA), General Record Schedule (GRS), items 12 (Downloaded and derived data) and 16 (Hard copy print outs).

SYSTEM MANAGER(S) AND ADDRESS:

Office of Administration, U.S. Railroad Retirement Board, 844 North Rush Street, Chicago, Illinois 60611-2092.

NOTIFICATION PROCEDURE:

Requests for information regarding an individual's record should be in writing addressed to the System Manager identified above, including the full name of the individual. Before information about any record will be released, the System Manager may require the individual to provide proof of identity or require the requester to furnish an authorization from the individual to permit release of information.

RECORD ACCESS PROCEDURE:

See Notification section above.

CONTESTING RECORD PROCEDURE:

See Notification section above.

RECORD SOURCE CATEGORIES:

RRB employees or supporting contractors.

EXEMPTIONS CLAIMED FOR THE SYSTEM:

No exemption is claimed for public information listed in this system of records.

Personal information listed in this system of records is exempted from disclosure to third parties under the Freedom of Information Act (FOIA) under the 5 U.S.C. 552a(b)(6), Personal Privacy rule. Additionally, personal information of law enforcement employees is protected from disclosure under 5 U.S.C. 552a(b)(7)C, Law Enforcement Records rule.

* * * * *

RRB-58

SYSTEM NAME:

Employee Tuition Assistance Program (TAP).

SYSTEM LOCATION:

U.S. Railroad Retirement Board, 844 Rush Street, Chicago, Illinois 60611.

SECURITY CLASSIFICATION:

None.

CATEGORIES OF INDIVIDUALS COVERED BY THE SYSTEM:

RRB Employees.

CATEGORIES OF RECORDS IN THE SYSTEM:

Employee name, grade, job title, business unit, course title, school name, class dates, number of hours per week, cost of tuition, estimated cost of textbooks/fees and claim tracking information (dates and amount paid).

AUTHORITY FOR MAINTENANCE OF THE SYSTEM:

a. 5 U.S.C. 4101 to 4118, Government Employees Training Act.

b. 5 CFR part 410, Office of Personnel Management-Training.

c. Executive Order 11348, Providing for the further training of Government employees, April 20, 1967.

d. Executive Order 12107, Relating to the Civil Service Commission and labor management in the Federal Service, January 1, 1979.

PURPOSE(S):

The purpose of this system of records is to maintain employee Tuition Assistance Program (TAP) training history, to forecast future training needs and for audit and budgetary records and projections.

ROUTINE USES OF RECORDS MAINTAINED IN THE SYSTEM, INCLUDING CATEGORIES OF USERS, AND THE PURPOSES OF SUCH USES:

In addition to the conditions of disclosure listed in 5 U.S.C. 552a(b) of the Privacy Act and the RRB's Standard Disclosures, the RRB may release these records to:

a. Federal agencies for screening and selecting candidates for training or developmental programs sponsored by the agency.

b. Federal oversight agencies for investigating, reviewing, resolving, negotiating, settling, or hearing complaints, grievances, or other matters under their authority.

DISCLOSURE TO CONSUMER REPORTING AGENCIES:

None.

POLICIES AND PRACTICES FOR STORING, RETRIEVING, ACCESSING, RETAINING, AND DISPOSING OF RECORDS IN THE SYSTEM:

STORAGE:

Paper, magnetic tape, magnetic disk.

RETRIEVABILITY:

Employee name, grade, job title, business unit and claim tracking information (dates and amount paid).

SAFEGUARDS:

1. Paper: Maintained in areas not accessible to the public in metal filing cabinets at the RRB. Access is limited to authorized RRB employees. Records are stored in an office that has electronic access controlled doors. Building has 24 hour on-site security officers, closed circuit television monitoring and intrusion detection systems.

2. Magnetic tape and disks: Computer and computer storage rooms are restricted to authorized personnel, have electronic access controlled doors. On-line query safeguards include a lock/unlock password system, a terminal oriented transaction matrix, role based access controls and audit trail. For electronic records, system securities are established in accordance with National Institute of Standards and Technology (NIST) guidelines, including network monitoring, defenses in-depth, incident response and forensics.

RETENTION AND DISPOSAL:

Retained and disposal in accordance with National Archives and Records Administration (NARA), General Record Schedule, GRS-1, Item #29, Employee Training Records, Destroy when 5 years old or when superseded or obsolete, whichever is sooner.

SYSTEM MANAGER(S) AND ADDRESS:

Director of Human Resources, Office of Administration, U.S. Railroad Retirement Board, 844 North Rush Street, Chicago, Illinois 60611-2092.

NOTIFICATION PROCEDURE:

Requests for information regarding an individual's record should be in writing addressed to the System Manager identified above, including the full name of the individual. Before information about any record will be released, the System Manager may require the individual to provide proof of identity or require the requester to furnish an authorization from the individual to permit release of information.

RECORD ACCESS PROCEDURE:

See Notification section above.

CONTESTING RECORD PROCEDURE:

See Notification section above.

RECORD SOURCE CATEGORIES:

RRB employees.

EXEMPTIONS CLAIMED FOR THE SYSTEM:

None.

* * * * *

RRB-59

SYSTEM NAME:

Electronic Information Systems Activity and Access Records.

SYSTEM LOCATION:

U.S. Railroad Retirement Board, 844 Rush Street, Chicago, Illinois 60611.

SECURITY CLASSIFICATION:

Controlled Unclassified Information (CUI).

CATEGORIES OF INDIVIDUALS COVERED BY THE SYSTEM:

Individuals (authorized or unauthorized) who attempt to or access RRB electronic information systems (stand-alone or network based). This includes individuals who send or receive electronic communications, access the internet/intranet, system databases, files or applications or pass electronic traffic through our network infrastructure, to include remote access.

CATEGORIES OF RECORDS IN THE SYSTEM:

Records in this system of records may include:

1. Electronic logs or reports from:

a. End user information systems,

b. Network servers or mainframe computer,

c. Network infrastructure devices,

d. Network security and management devices, and

e. Information systems performing contracted services for the agency.

2. Specific data collected may include information about the source, destination or intermediate connections that may contain:

a. Internet Protocol (IP) address,

b. Uniform Resource Locator (URL),

c. Date/Time of attempted or actual log-on,

d. Date/Time of log-off,

e. Duration of connection,

f. Size (amount) and type of data transferred,

g. Keyword(s) used in internet related searches,

h. Information system name,

i. Information system Media Access Control (MAC) address,

j. Electronic mail addresses and subject,

k. Files/Applications accessed,

l. User logon name and passwords, or password hashes, titles, or agency, or

m. Any other information that is necessary for information systems to connect, authenticate and transfer data.

3. Network security and management devices may capture additional information that is required for them to perform their mission to include complete network monitoring.

4. RRB information system logs generally do not contain personally identifiable information (PII), however incidental collection is possible during system monitoring or other official government purposes.

5. It is possible that during the course of official government business purposes, investigations or monitoring that an individual's name may be associated with an information system or its IP address.

AUTHORITY FOR MAINTENANCE OF THE SYSTEM:

a. 5 U.S.C. 302, Delegation of Authority to Federal Agencies,

b. 44 U.S.C. 3544, Federal Agency Responsibilities, and

c. 45 U.S.C. 231f(b)(6) and 45 U.S.C. 362(l), Duties and Powers of the Railroad Retirement Board.

PURPOSE(S):

Information in this system of records may be used by any authorized staff member, in the performance of their official duties to assist in the planning, management, troubleshooting, security and investigations of our Federal information systems and supporting network.

Authorized managers or system security staff may use these records to assist them to investigate any potential or actual inappropriate use or any other improper activity by an employee, contractor, or other individual with our information systems. This information may be used to initiate disciplinary, administrative, or civil action. If investigation of the records appears to indicate a violation or potential violation of law, those and any supporting records may be referred to appropriate law enforcement officials for criminal investigation and possible prosecution.

ROUTINE USES OF RECORDS MAINTAINED IN THE SYSTEM, INCLUDING CATEGORIES OF USERS, AND THE PURPOSES OF SUCH USES:

In addition to the conditions of disclosure listed in 5 U.S.C. 552a(b) of the Privacy Act and the RRB's Standard Disclosures, the RRB may release these records:

a. To provide information to any authorized person(s) to assist in any official investigation involving the unauthorized, or inappropriate use of any RRB information system(s);

b. To an actual or potential party or his or her representative for the purpose of negotiation or discussion of such matters as settlement of the case or matter, or informal discovery proceedings;

c. To any Federal, State, local, or tribal law enforcement agency if information in this system of records may indicate a potential or actual violation of statute, regulation, rule or order issued by their respective governmental agency, and

d. To other government agencies where required by law.

DISCLOSURE TO CONSUMER REPORTING AGENCIES:

None.

POLICIES AND PRACTICES FOR STORING, RETRIEVING, ACCESSING, RETAINING, AND DISPOSING OF RECORDS IN THE SYSTEM:

STORAGE:

Magnetic disk, magnetic tape, optical or paper media as necessary for official business.

RETRIEVABILITY:

Records can typically be retrieved by any of the data elements below:

a. Internet Protocol (IP) address,

b. Uniform Resource Locator (URL),

c. Date/Time of attempted or actual log-on,

d. Date/Time of log-off,

e. Duration of connection,

f. Size (amount) of data transferred,

g. Keywords used in internet related searches,

h. Information system name,

i. Information system Media Access Control (MAC) address,

j. Electronic mail addresses and subject,

k. Files/Applications accessed,

l. User logon name and passwords, or password hashes, titles, or agency.

We do not typically connect any of the above data with a specific person; however, in some instances conducting official governmental business, a person's name may be connected to any of these data elements.

SAFEGUARDS:

Paper or Optical Media: Maintained in areas not accessible to the public in locking filing cabinets at the RRB. Access is limited to authorized RRB employees. Information that is related to an investigation is secured inside locking safes. Building has 24 hour on-site security officers, closed circuit television monitoring and intrusion detection systems.

Magnetic tape and disks: Computer and computer storage rooms are restricted to authorized personnel and have electronic access controlled doors. On-line query safeguards include a lock/unlock password system, a terminal oriented transaction matrix, role based access controls and audit trail. For electronic records, system securities are established in accordance with National Institute of Standards and Technology (NIST) guidelines, including network monitoring, defenses in-depth, incident response and forensics.

RETENTION AND DISPOSAL:

a. General System/Log Files:

Delete/destroy when one year old or when no longer needed for administrative, legal, audit or other operational purposes.

b. Investigative Files:

(1) Computer Security Incident Handling, Reporting, Follow-up Records, and Investigative Documents. Destroy/delete three years after after all follow up actions are completed.

(2) RRB Criminal Investigations. Maintained by RRB Office of Inspector General (Investigations). RRB Records Disposition Schedule 17, Item # 17-3: Place in inactive files when case is closed. Cutoff inactive files at end of the fiscal year. Destroy 10 years after cutoff.

(3) Other Criminal Investigations. Maintained in accordance with that Law Enforcement Agencies schedule.

SYSTEM MANAGER(S) AND ADDRESS:

Chief of Information Resources Management, Bureau of Information Services, U.S. Railroad Retirement Board, 844 North Rush Street, Chicago, Illinois, 60611-2092.

NOTIFICATION PROCEDURE:

To the extent permitted under the Privacy Act of 1974, (5 U.S.C. 552a) this system of records is exempted from access, notification and correction provisions. The exemption claimed is 5 U.S.C. 552a(k)(2), investigatory material compiled for law enforcement purposes. Additionally, law enforcement investigative material falls under RRB Privacy Act Systems of Records RRB-43 and is generally exempt from release under the reasons stated in that notice. Information in this Privacy Act System of Records is generally not releasable under a Freedom of Information Act (FOIA), 5 U.S.C. 552 exemptions: (b)(2) Risk of Circumvention, (b)(6) Personal Privacy, or (b)(7) Law Enforcement. Individuals (authorized or unauthorized) attempting to access an RRB information system are provided a warning notification that this is an official U.S. Government information system and that they have no expectation of privacy, the system may be monitored and that records of their activity may be used for adverse administrative, civil or criminal action. The individual must acknowledge and accept these conditions via a warning banner when they attempt to log onto the network. Individuals who circumvent or are not provided a log-on banner for whatever reason, are still subject to these provisions.

RECORD ACCESS PROCEDURE:

See Notification section above.

CONTESTING RECORD PROCEDURE:

See Notification section above.

RECORD SOURCE CATEGORIES:

Most records are automatically generated electronically by RRB information systems, or by management officials during the course of official business.

EXEMPTIONS CLAIMED FOR THE SYSTEM:

Yes, this is an exempted system. See notification procedures above.

Appendix I

Offices of the U.S. Railroad Retirement Board (refer to http://www.rrb.gov/field/field.asp for the most current addresses):

Headquarters: 844 North Rush Street, Chicago, IL 60611-2092.

Office of Legislative Affairs: 1310 G Street Northwest, Suite 500, Washington, DC 20005-3004.

District Offices:

Alabama

Medical Forum Bldg., 950 22nd Street North, Room 426, Birmingham, AL 35203-1134.

Arizona

Fiesta Square, 1220 South Alma School Road, Mesa, AZ 85210-2098.

Arkansas

1200 Cherry Brook Drive, Suite 500, Little Rock, AR 72211-4122.

California

858 South Oak Park Road, Suite 102, Covina, California 91724-3674.

Oakland Federal Building, 1301 Clay Street, Suite 110S, Oakland, CA 94612-5215.

910 Cirby Way, Suite 100, Roseville, CA 95661-4420.

Colorado

721 19th Street, Room 177, Post Office Box 8869, Denver, CO 80201-8869.

Florida

550 Water Street, Suite 220, Jacksonville, FL 32202-4411.

Timberlake Federal Building, 500 East Zack Street, Suite 300, Tampa, FL 33602-3918.

Georgia

Peachtree Summit Building, 401 West Peachtree Street, Room 1702, Atlanta, GA 30308-3519.

Illinois

844 North Rush Street, Room 901, Chicago, IL 60611-2092.

Millikin Court, 132 South Water Street, Suite 517, Decatur, IL 62523-1077.

63 West Jefferson Street, Suite 102, Joliet, IL 60434-4337.

Indiana

The Meridian Centre, 50 South Meridian Street, Suite 303, Indianapolis, IN 46204-3538.

Iowa

Federal Building, 210 Walnut Street, Room 921, Des Moines, IA 50309-2116.

Kansas

Cambridge Plaza Suite, 2020 North Webb Road, Suite 104, Wichita, KS 67206-3408.

Kentucky

Theatre Building, 629 South 4th Street, Suite 301, Louisville, KY 40202-2461.

Louisiana

Hale Boggs Federal Building, 500 Poydras Street, Suite 1045, New Orleans, LA 70130-3399.

Maryland

George H. Fallon Building, 31 Hopkins Plaza, Suite 820, Baltimore, MD 21201-2896.

Massachusetts

408 Atlantic Avenue, Room 441, Boston, MA 02110-3349.

Michigan

McNamara Federal Building, 477 Michigan Avenue, Room 1199, Detroit, MI 48226-2596.

Minnesota

Federal Building, 515 West First Street, Suite 125, Duluth, MN 55802-1399.

180 East 5th Street, Suite 195, St. Paul, MN 55101-1640.

Missouri

601 East 12th Street, Room G47, Kansas City, MO 64106-2818.

Young Federal Building, 1222 Spruce Street, Room 7.303, St. Louis, MO 63103-2846.

Montana

Judge Jameson Federal Building, 2900 Fourth Avenue North, Room 101, Billings, MT 59101-1266.

Nebraska

1299 Farnam Street, Suite 200, Omaha, NE 68101-0815.

New Jersey

20 Washington Place, Room 516, Newark, NJ 07102-3127.

New Mexico

421 Gold SW., Suite 304, Post Office Box 334, Albuquerque, NM 87103-0334.

New York

Leo O`Brien Federal Building, 11A Clinton Avenue, Suite 264, Albany, NY 12207-2382.

186 Exchange Street, Suite 110, Buffalo, NY 14204-2085.

1400 Old Country Road, Suite 202, Westbury, NY 11590-5119.

Federal Building, 26 Federal Plaza, Suite 3404, New York, NY 10278-3499.

North Carolina

Quorum Business Park, 7508 East Independence Boulevard, Suite 120, Charlotte, NC 28227-9409.

North Dakota

U.S. Post Office Building, 657 Second Avenue North, Room 312, Fargo, ND 58102-4727.

Ohio

525 Vine Street, Suite 1940, Cincinnati, OH 45202-3125.

Celebrezze Federal Building, 1240 East 9th Street, Room 907, Cleveland, OH 44199-2001.

Oregon

620 SW Main Street, Suite 112, Portland, OR 97205-3025.

Pennsylvania

1514 11th Avenue, Post Office Box 990, Altoona, PA 16603-0990.

Federal Building, 228 Walnut Street, Room 576, Box 11697, Harrisburg, PA 17108-1697.

Nix Federal Building, 900 Market Street, Suite 301, Philadelphia, PA 19107-4293.

Moorhead Federal Building, 1000 Liberty Avenue, Room 1511, Pittsburgh, PA 15222-4107.

Siniawa Plaza II, 717 Scranton Carbondale Highway, Scranton, PA 18508-1121.

Tennessee

233 Cumberland Bend, Suite 104, Nashville, TN 37228-1806.

Texas

819 Taylor Street, Room 10G02, Post Office Box 17420, Fort Worth, TX 76102-0420.

Leland Federal Building, 1919 Smith Street, Suite 845, Houston, TX 77002-8098.

Utah

125 South State Street, Room 1205, Salt Lake City, UT 84138-1137.

Virginia

400 North 8th Street, Suite 470, Richmond, VA 23219-4819.

First Campbell Square, 210 First Street Southwest, Suite 110, Post Office Box 270, Roanoke, VA 24002-0270.

Washington

Pacific First Plaza, 155 108th Avenue Northeast, Suite 201, Bellevue, WA 98004-5901.

U.S. Court House, W 920 Riverside Avenue, Room 492B, Spokane, WA 99201-1008.

West Virginia

New Federal Building, 640 4th Avenue, Room 145, Post Office Box 2153, Huntington, WV 25721-2153.

Wisconsin

Reuss Plaza, 310 West Wisconsin Avenue, Suite 1168, Milwaukee, WI 53203-2213.

[FR Doc. 2014-22718 Filed 9-29-14; 8:45 am]

BILLING CODE 7905-01-P